SMALL BUSINESS ADMINISTRATION

13 CFR Part 121

Small Business Size Regulations; Size Standards and the North American Industry Classification System

AGENCY: Small Business Administration.

ACTION: Final rule.

SUMMARY: The Small Business Administration (SBA) is amending its size regulations by establishing a new table of small business size standards for industries as the North American Industry Classification System (NAICS) defines them. These new size standards are effective beginning with Fiscal Year 2001, which starts on October 1, 2000. Small business size standards currently exist for most industries under the Standard Industrial Classification (SIC) system. SBA has determined that NAICS is a better description of industries in the U.S. economy than the SIC system for purposes of establishing size standards.

DATES: This rule is effective October 1, 2000.

FOR FURTHER INFORMATION CONTACT: Carl Jordan, Office of Size Standards, at (202) 205-6618.

SUPPLEMENTARY INFORMATION:

Introduction

Under section 3(a)(2) of the Small Business Act, SBA establishes small business definitions, or size standards, by industry category and varies size standards as necessary to reflect industry differences to determine small business eligibility for Federal programs. The current table of size standards uses SIC industry descriptions as the basis for the size standards. Because NAICS replaced the SIC system for use by Federal agencies in collecting economic data, we reviewed NAICS to determine whether we should also use the NAICS industry descriptions to establish small business size standards. Based on that review, we proposed in the October 22, 1999, Federal Register (64 FR 57187-57286) to adopt a new table of small business size standards for industries as they are described in NAICS, effective October 1, 2000.

The new table would replace the existing table of size standards for industries as they are described in the SIC system. We invited comments from interested parties on our proposal to adopt NAICS-based size standards. Specifically, we requested comments on at least the following: (1) Is FY 2001 an appropriate effective date? (2) Are the guidelines that we used in proposing the new size standards appropriate? (3) Will there be a significant impact on firms in an industry where some firms will lose size eligibility or formerly large firms will now become small? (4) If the answer to (3) is yes, how can we eliminate or minimize that potential impact?

NAICS was designed, as was the SIC system, solely for statistical purposes. The Office of Management and Budget (OMB) published a “Notice of final decision” in the Federal Register on April 9, 1997 (62 FR 17288-17478), announcing its decision to adopt NAICS. OMB's notice stated that “NAICS shall not be used in any administrative, regulatory, or tax program unless the head of the agency administering that program has first determined that the use of such industry definitions is appropriate for implementation of the program's objectives.” As the Administrator of SBA I have determined that NAICS industry descriptions are more appropriate than SIC industry descriptions to use in SBA programs and to accomplish our Agency's mission. Further, all Federal Agencies, in accordance with section 3(a)(2) of the Small Business Act, must use SBA's established size standards to categorize a business as a small business concern, unless the agencies: (1) Are authorized by statute to do otherwise; or (2) have obtained the SBA Administrator's approval for an alternative. NAICS is an improvement over the SIC system in identifying and describing industries in the U.S. economy, and size standards established for NAICS industries will better define small business. This final rule adopts the proposed size standards and specifies an effective date of October 1, 2000.

Summary of Comments

We received three comments to the proposed rule, each of which supported it. Two comments were from industry associations, and the third is from an SBA office. Besides supporting the proposed rule, the comments included some other observations and suggestions. We will summarize and address their comments here.

1. An association representing moving and storage companies supports our proposal to issue the new table of size standards based on NAICS using our proposed methodology, and also supports October 1, 2000, as the implementation date if an earlier one is not practicable. We stated in the October 22, 1999, proposed rule why we believe October 1, 2000, is the appropriate date. Our three reasons concerned consistency in government recordkeeping and statistics, development of historical data for comparison purposes, and the need for time to convert and update data bases and tracking systems (see 64 FR 57190). The association also commented on its understanding of certain specific NAICS codes and how those NAICS codes will apply to future Federal government and military contracts. The association indicates that it “does not believe that any firms in the moving and storage industry will be affected by this change, as the same $18.5 million size standard will apply as is currently in place.” We believe this supports our conclusions that because we applied the guidelines consistently, the size standards we proposed are appropriate and that this change will cause little loss of small business eligibility, if any, to businesses currently eligible to participate in Federal small business programs.

2. A coalition of environmental contractors supported SBA's methodology and the FY 2001 implementation date as well. They raised, however, questions about two NAICS codes for which we established a $5.0 million size standard. Specifically, the coalition questioned whether $5 million is appropriate for NAICS codes 514199, “All Other Information Services,” and 541620, “Environmental Consulting Services.” NAICS codes 514199 and 541620 are two activities related to SIC 8999, “Services, NEC” (specifically, Miscellaneous Information Providers and Environmental Consultants), both of which are new NAICS industries. The current size standard for SIC 8999 is $5 million.

Concerning NAICS 514199, it is one of five industries within Subsector 514, “Information Services and Data Processing Services.” Four of those NAICS industries are related to and the same as four SIC industries. Two of them, namely NAICS 514191 (On-Line Information Services) and NAICS 514210 (Data Processing Services) are Computer Services. All industry activities described within SIC codes 7371 through 7379 have the same $18.0 million size standard. We applied the first proposed guideline, and therefore, $18.0 million is the correct size standard for NAICS 514191 and NAICS 514210. The other two NAICS codes, namely NAICS 514110 (News Syndicates) and NAICS 514120 (Libraries and Archives) are related to and the same as SIC 7383 (News Syndicates) and SIC 8231 (Libraries) respectively. The size standards for SIC 7383 and 8231 are $5.0 million. We applied the first proposed guideline, and therefore, $5.0 million is the correct size standard for NAICS 514110 and NAICS 514120. While all of these industries are parts of Subsector 514 (Information Services and Data Processing Services), NAICS 514199 specifically excludes news syndicates, libraries, archives and on-line information access. Further, NAICS 514199 is only related to part of SIC 8999, “Services, NEC,” and it is limited to “miscellaneous information providers.” Therefore, consistent with the first guideline, and the other industries in this Subsector, $5.0 million is the correct size standard for NAICS 514199.

Concerning NAICS 541620, “Environmental Consulting Services,” the coalition further suggested that the size standard should be 500 employees, the same as we established for “Environmental Remediation Services,” a segment of SIC 8744, “Facilities Support Management Services.” Consistent with the fourth proposed guideline, we retained this activity and its corresponding size standard of 500 employees as a segment within NAICS 562910 “Remediation Services.” NAICS 562910 is an industry related to part of SIC 1799, “Special Trade Contractors, NEC.” Because the size standard for SIC 1799 is $7 million, we are retaining $7 million as the size standard for NAICS 562910. This is consistent with the first proposed guideline.

The distinction between “Remediation Services” and “Environmental Remediation Services” lies in the extent and complexity of work to be performed on a specific Federal government contract. “Environmental Consulting Services” is one activity, and, as the coalition notes, often conducted in conjunction with an environmental remediation contract. However, “Environmental Remediation Services” requires that (1) the purpose of the procurement be the restoration of a contaminated environment, i.e., environmental remediation, and (2) the procurement be composed of activities in three or more separate industries, none of which constitutes 50% or more of the contract value, and each of which would, if it were a separate contract, be a different NAICS (formerly SIC) code. Footnote 14 more fully details when 500 employees is the appropriate size standard for an Environmental Remediation Services contract.

Therefore, the size standards for NAICS 541620 and NAICS 562910 will be $5 million and $7 million respectively. The contracting officer will assign the NAICS code together with its small business size standard that best describes the principal purpose of the contract to be performed. If Environmental Consulting Services is the principal purpose of a Federal government procurement, the appropriate NAICS code is 541620 and the size standard is $5 million. If the principal purpose of the Federal government procurement is Environmental Remediation Services and it meets the conditions stated in Footnote 14, the contracting officer will assign NAICS 562910 with the 500 employee size standard. We recognize that these three industries are closely related. As industry data become available for these industries, we will reconsider their size standard(s).

Lastly, the coalition suggests we review the $5 million “anchor” size standard for industries generally classified as Services. In 1994 we increased nearly all receipts based size standards because inflation had reduced the number of small businesses eligible to participate in Federal programs reserved for small business. We are reviewing all receipts based small business size standards to determine the extent of inflation since the 1994 increase, and whether we should adjust the size standards to reflect inflation's effects since then. Once we determine the need for an increase, we will publish a proposed rule in the Federal Register concerning the change.

While we are open to requests to change one or more size standards, this rule is limited to replacing the existing table of small business size standards with a new one based on more current and accurate industry definitions. This rule does not reevaluate existing small business size standards nor does it intend to change any. We modify size standards occasionally, but only after we have separately evaluated individual industries and their size standards. Such modifications are separate SBA actions. Following the requirements set forth in the Administrative Procedure Act, we fully explain our methodology and reasons for a contemplated change, and do not make changes without having provided an opportunity for public comment.

For example, we have proposed increasing size standards for the Help Supply Services (SIC 7363), 11 of the 19 Health Services (Major Group 80), the General and Special Construction Industries (Major Groups 15, 16 and 17), Garbage and Refuse Collection (part of SIC 4212) and Refuse Systems (SIC 4953). The comment period is closed on those proposed rules, and we will publish our decision on them as Final Rules in the Federal Register in the near future. However, those size standards, once published as final, will apply to industries in the current table of size standards based on the SIC system, until October 1, 2000. From that date forward they will apply to the related industries as they are described in NAICS. The table that is the subject of this rule is based only on existing size standards.

3. The SBA comment noted that in Table IV of the proposed rule we did not affix Footnote 10 to NAICS codes 531311, 531312, 531390 and 561920, but had listed those NAICS codes in the text of Footnote 10 as if the footnote applied to those codes. Footnote 10 allows firms in those industries to exclude certain amounts when calculating average annual receipts under 13 CFR 121.104(a)(1). Footnote 10 to this table is the same as Footnote 6 to the table based on SIC industry descriptions.

Footnote 10 does not apply to firms in NAICS codes 531311 (Residential Property Managers), 531312 (Nonresidential Property Managers) and 531390 (Other Activities Related to Real Estate), since they do not work on commission. Including them in the list of NAICS codes to which Footnote 10 applied was inadvertent on our part. Therefore, we modify Footnote 10 to apply only to NAICS 531210 (Offices of Real Estate Agents and Brokers), NAICS 541810 (Advertising Agencies), NAICS 561510 (Travel Agencies) and NAICS 561920 (Convention and Trade Show Organizers).

The SBA comment also noted that the proposed rule did not reflect the change of the acronym SIC to NAICS in §§ 121.103(f)(3)(i), 121.103(f)(3)(i)(A), and 121.103(f)(3)(iii). We overlooked those changes in the proposed rule, but have included them in this final rule. The changes are not substantive. Rather, “NAICS” replaces “SIC” there as it does in the other sections of this part. They are the logical outgrowth of this overall change. There were no other comments in this regard.

Reasons for This Change

We explained in our October 22, 1999, proposed rule why we believed a new table of size standards based on NAICS should replace the existing table based on SIC. NAICS is a significant improvement over the SIC system and provides a better structure on which to establish size standards by industry category. NAICS was developed to describe the structure of today's economy. We have determined that the new table of small business size standards reflecting NAICS industries is in the interests of small business. We stated in our October 22, 1999, proposed rule why we believe we should use NAICS for small business size standards, namely because (1) the SIC system has not kept up with the economy; (2) NAICS recognizes the growth and expansion of the services and technological industries; (3) the Census Bureau will no longer organize and make data available for SIC industries after the 1997 Economic Census; and (4) we believe that all other Federal agencies will switch to NAICS for their program and administrative purposes. Having a single industry classification system within the Federal government will avoid confusion and inconsistency that would likely result if we delay issuing a new table of size standards based on NAICS.

Implementation Date of NAICS Size Standards

NAICS-based size standards are effective for all Federal small business programs beginning with FY 2001, which starts October 1, 2000. We have selected this date to implement NAICS-based size standards because (1) Federal government recordkeeping and statistics will be more consistent and comparable with past data and for analyzing future small business activity if implementation of the new table of size standards is at the beginning of a fiscal year; (2) we and other users of size standards will need to collect data on small business programs on the NAICS format to be able to compare those data with the future Federal statistics; and (3) small business size standards apply to most Federal agencies and their programs involving small businesses, and they will need time to determine how to implement the new size standards and to develop training tools necessary to do so.

Present Status of NAICS

OMB adopted NAICS to replace the 1987 SIC system. NAICS is based on concepts developed by the U.S. Economic Classification Policy Committee (ECPC), an interagency committee established by OMB, with Statistics Canada and Mexico's Instituto Nacional de Estadística Geografía e Informatíca. We did not in our proposed rule, nor do we here, include the entire texts of OMB's or ECPC's documents. We suggest that interested parties review the April 9, 1997, Federal Register (62 FR 17288-17478) notice, together with earlier Federal Register notices, proposed rules and other papers and documents that preceded and followed that final notice. We believe that this will help interested parties understand NAICS better and increase their awareness of the changes that may affect them and their industry. Copies of all Federal Register notices, including SBA's October 22, 1999, proposed rule, are available from the Superintendent of Documents, U.S. Government Printing Office, Washington, DC 20402, or by calling 1 (202) 512-1800. Those with access to the Internet can obtain all Federal Register notices for 1995 and forward via GPO Access at http://www.access.gpo.gov/su_docs. In addition, the U.S. Department of Commerce, Bureau of Census (Census Bureau) at http://www.census.gov/epcd/www/naics.html has the April 9, 1997, Federal Register notice and other NAICS related documents.

How We Converted the Size Standards From SIC-Based to NAICS-Based

The October 22, 1999, proposed rule contains a full description of our methodology in determining the correct size standards to use for the NAICS industry descriptions. We included a table (Table III in the proposed rule) that summarized guidelines for the conversions. Comments supported our methodology and this rule is the result of our applying them consistently. Therefore, we have made no changes to the size standards we proposed in that notice. We repeat those guidelines below in Table I, which is the same as Table III in the proposed rule.

Table I
If the NAICS industry is composed of: | The size standard for the NAICS industry is:
1. One SIC industry or part of one SIC industry | The same size standard as for the SIC industry or part.
e.g., NAICS 331221, NAICS 513111, NAICS 513112, NAICS 513120
2. More than one SIC industry; parts of more than one SIC industry; or one or more SIC industry and part(s) of one or more SIC industry, | The same size standard as for those SIC industries or parts of SIC industries.
And
they all have the same size standard
e.g., NAICS 315234, NAICS 513330, NAICS 561599
3. More than one SIC industry; parts of more than one SIC industry; or one or more SIC industry and part(s) of one or more SIC industry, | The same size standard as for the SIC industry or SIC industry part(s) that most closely matches the economic activity described by the NAICS industry.
And
they do not all have the same size standard
e.g., NAICS 332999, NAICS 334119, NAICS 334612, NAICS 442110, NAICS 487210, NAICS 487990, NAICS 488310, NAICS 532120, NAICS 532220, NAICS 561621, NAICS 711510, NAICS 812220, NAICS 813990
4. One or more parts of an SIC industry for which SBA has established specific size standards (i.e., further segmented) | The same size standard as for that specific SIC industry part.
e.g., NAICS 234990, NAICS 441229, NAICS 531190, NAICS 541330, NAICS 611512
5. One or more SIC industries and/or parts of SIC industries that were categorized broadly under the SIC system as Services, Retail Trade, Wholesale Trade or Manufacturing, but are now categorized differently under NAICS | SBA applied (a) a size standard measure (e.g., number of employees, annual receipts) typical of the NAICS Sector; and (b) the corresponding “anchor” size standard. The “anchor” size standards are $5 million for Services and Retail Trade, 500 employees for Manufacturing and 100 employees for Wholesale Trade (except for Federal procurement programs, where the standard is 500 employees under the non-manufacturer rule).
e.g., NAICS 311811, NAICS 326212, NAICS 334611, NAICS 339116, NAICS 421990, NAICS 441310

Following these guidelines we produced a table of small business size standards that accomplished our objectives. There are approximately 1,175 NAICS industries, and small business size standards for virtually all economic activities within the SIC codes remain the same in NAICS. Most of the NAICS small business size standards resulted from applying the first two guidelines. There were no comments suggesting that SBA should consider modifying the guidelines.

Besides the guidelines, SBA included in the October 22, 1999, proposed rule a complete table that showed each NAICS industry with the SIC industry or industries that are related to it. That table (Table IV in the proposed rule) provided the existing size standard(s) for the associated SIC code(s) and the proposed size standard for each NAICS code, as they result from applying the guidelines. Because we applied these guidelines consistently, and the only comments on them that we received were favorable, we are not repeating that table in this rule. Interested parties may refer to the October 22, 1999, proposed rule (64 FR 57187-57286), as cited above, or visit SBA's Web site on size standards site at http://www.sba.gov/size/, and select “What's New.”

Compliance With Executive Order 12866, the Regulatory Flexibility Act (5 U.S.C. 601-612), the Paperwork Reduction Act (44 U.S.C. 3501 Ch. 35), and Executive Orders and 12988 and 13132

SBA has determined that this rule is not a significant rule within the meaning of Executive Order 12866. For purposes of the Regulatory Flexibility Act, SBA certifies that the rule will affect a significant number of small businesses, but that the impact of the rule on each business will not be substantial.

This rule applies to all small entities and Federal programs reserved for small entities, except those specifically excluded by Federal legislation or elsewhere under 13 CFR part 121. SBA estimates that relatively few firms will gain or lose small business status because of this rule. Though SBA is establishing a new table of size standards, firms that are now eligible for Federal small business programs will remain eligible to the maximum extent practicable.

There are three significant benefits to this rule. (a) Size standards are based on the most current industry descriptions. (b) Since SBA uses Census data to establish, review, change and/or otherwise modify small business size standards, data SBA obtains from the Census Bureau will be the most recent and accurate economic data available. (c) Collecting and analyzing statistical data on small business participation in the Federal procurement process will be more accurate, particularly in the technological and services industries.

SBA believes that this rule will impose no additional costs on the public. Further, the new NAICS-based table of small business size standards does not add any significant costs to Federal Government programs reserved for small businesses. Federal agencies and other users bear the administrative costs associated with converting from the SIC system to NAICS.

For the purpose of the Paperwork Reduction Act, 44 U.S.C. 3501 et seq., SBA has determined that this rule does not impose new reporting or record keeping requirements. For purposes of Executive Order 12988, SBA certifies that this rule is drafted, to the extent possible under standards in section 3 of the order. For purposes of Executive Order 13132, SBA has determined that this rule does not have any federalism implications warranting the preparation of a Federalism Assessment.

List of Subjects in 13 CFR Part 121

Government procurement, Government property, Grant programs-business, Loan programs-business, Small business.

For the reasons stated in the preamble, SBA is amending 13 CFR PART 121 as follows:

PART 121—SMALL BUSINESS SIZE REGULATIONS

1. The authority citation of part 121 continues to read as follows:

Authority: Pub. L. 105-135 sec. 601 et seq., 111 Stat. 2592; 15 U.S.C. 632(a), 634(b)(6), 637(a), and 644(c); and Pub. L. 102-486, 106 Stat. 2776, 3133.

2. Revise § 121.101 to read as follows:

§ 121.101 What are SBA size standards?

(a) SBA's size standards define whether a business entity is small and, thus, eligible for Government programs and preferences reserved for “small business” concerns. Size standards have been established for types of economic activity, or industry, generally under the North American Industry Classification System (NAICS).

(b) NAICS is described in the North American Industry Classification Manual—United States, 1997 which is available from the National Technical Information Service, 5285 Port Royal Road, Springfield, VA 22161; by calling 1(800) 553-6847 or 1(703) 605-6000; or via the Internet at http://www.ntis.gov/yellowbk/1nty205.htm. The manual includes definitions for each industry, tables showing relationships between 1997 NAICS and 1987 SICs, and a comprehensive index. NAICS assigns codes to all economic activity within twenty broad sectors. Section 121.201 provides a full table of small business size standards matched to the U.S. NAICS industry codes. A full table matching a size standard with each NAICS Industry or U.S. Industry code is also published annually by SBA in the Federal Register.

§ 121.103 [Amended]

3. Amend § 121.103 as follows:

a. In paragraph (f)(3)(i) introductory text, replace the acronym “SIC” with the acronym “NAICS.”

b. In paragraph (f)(3)(i)(B)(1) replace the acronym “SIC” with the acronym “NAICS.”

c. In paragraph (f)(3)(iii) replace the acronym “SIC” with the acronym “NAICS.”

4. Revise § 121.201 to read as follows:

§ 121.201 What size standards has SBA identified by North American Industry Classification System codes?

The size standards described in this section apply to all SBA programs unless otherwise specified in this part. The size standards themselves are expressed either in number of employees or annual receipts in millions of dollars, unless otherwise specified. The number of employees or annual receipts indicates the maximum allowed for a concern and its affiliates to be considered small.

Small Business Size Standards by NAICS Industry
NAICS codes | Description (N.E.C. = Not Elsewhere Classified) | Size standard in number of employees or millions of dollars
Sector 11—Agriculture, Forestry and Fishing
Subsector 111—Crop Production
111110 | Soybean Farming | .................$0.5
111120 | Oilseed (except Soybean) Farming | .................$0.5
111130 | Dry Pea and Bean Farming | .................$0.5
111140 | Wheat Farming | .................$0.5
111150 | Corn Farming | .................$0.5
111160 | Rice Farming | .................$0.5
111191 | Oilseed and Grain Combination Farming | .................$0.5
111199 | All Other Grain Farming | .................$0.5
111211 | Potato Farming | .................$0.5
111219 | Other Vegetable (except Potato) and Melon Farming | .................$0.5
111310 | Orange Groves | .................$0.5
111320 | Citrus (except Orange) Groves | .................$0.5
111331 | Apple Orchards | .................$0.5
111332 | Grape Vineyards | .................$0.5
111333 | Strawberry Farming | .................$0.5
111334 | Berry (except Strawberry) Farming | .................$0.5
111335 | Tree Nut Farming | .................$0.5
111336 | Fruit and Tree Nut Combination Farming | .................$0.5
111339 | Other Noncitrus Fruit Farming | .................$0.5
111411 | Mushroom Production | .................$0.5
111419 | Other Food Crops Grown Under Cover | .................$0.5
111421 | Nursery and Tree Production | .................$0.5
111422 | Floriculture Production | .................$0.5
111910 | Tobacco Farming | .................$0.5
111920 | Cotton Farming | .................$0.5
111930 | Sugarcane Farming | .................$0.5
111940 | Hay Farming | .................$0.5
111991 | Sugar Beet Farming | .................$0.5
111992 | Peanut Farming | .................$0.5
111998 | All Other Miscellaneous Crop Farming | .................$0.5
Subsector 112—Animal Production
112111 | Beef Cattle Ranching and Farming | .................$0.5
112112 | Cattle Feedlots | .................$1.5
112120 | Dairy Cattle and Milk Production | .................$0.5
112210 | Hog and Pig Farming | .................$0.5
112310 | Chicken Egg Production | .................$9.0
112320 | Broilers and Other Meat Type Chicken Production | .................$0.5
112330 | Turkey Production | .................$0.5
112340 | Poultry Hatcheries | .................$0.5
112390 | Other Poultry Production | .................$0.5
112410 | Sheep Farming | .................$0.5
112420 | Goat Farming | .................$0.5
112511 | Finfish Farming and Fish Hatcheries | .................$0.5
112512 | Shellfish Farming | .................$0.5
112519 | Other Animal Aquaculture | .................$0.5
112910 | Apiculture | .................$0.5
112920 | Horse and Other Equine Production | .................$0.5
112930 | Fur-Bearing Animal and Rabbit Production | .................$0.5
112990 | All Other Animal Production | .................$0.5
Subsector 113—Forestry and Logging
113110 | Timber Tract Operations | .................$5.0
113210 | Forest Nurseries and Gathering of Forest Products | .................$5.0
113310 | Logging | ..................500
Subsector 114—Fishing, Hunting and Trapping
114111 | Finfish Fishing | .................$3.0
114112 | Shellfish Fishing | .................$3.0
114119 | Other Marine Fishing | .................$3.0
114210 | Hunting and Trapping | .................$3.0
Subsector 115—Support Activities for Agriculture and Forestry
115111 | Cotton Ginning | .................$5.0
115112 | Soil Preparation, Planting, and Cultivating | .................$5.0
115113 | Crop Harvesting, Primarily by Machine | .................$5.0
115114 | Postharvest Crop Activities (except Cotton Ginning) | .................$5.0
115115 | Farm Labor Contractors and Crew Leaders | .................$5.0
115116 | Farm Management Services | .................$5.0
115210 | Support Activities for Animal Production | .................$5.0
115310 | Support Activities for Forestry | .................$5.0
211112 | Natural Gas Liquid Extraction | ..................500
Sector 21—Mining
Subsector 211—Oil and Gas Extraction
211111 | Crude Petroleum and Natural Gas Extraction | .................500
211112 | Natural Gas Liquid Extraction | .................500
Subsector 212—Mining (except Oil and Gas)
212111 | Bituminous Coal and Lignite Surface Mining | .................500
212112 | Bituminous Coal Underground Mining | .................500
212113 | Anthracite Mining | .................500
212210 | Iron Ore Mining | .................500
212221 | Gold Ore Mining | .................500
212222 | Silver Ore Mining | .................500
212231 | Lead Ore and Zinc Ore Mining | .................500
212234 | Copper Ore and Nickel Ore Mining | .................500
212291 | Uranium-Radium-Vanadium Ore Mining | .................500
212299 | All Other Metal Ore Mining | .................500
212311 | Dimension Stone Mining and Quarrying | .................500
212312 | Crushed and Broken Limestone Mining and Quarrying | .................500
212313 | Crushed and Broken Granite Mining and Quarrying | .................500
212319 | Other Crushed and Broken Stone Mining and Quarrying | .................500
212321 | Construction Sand and Gravel Mining | .................500
212322 | Industrial Sand Mining | .................500
212324 | Kaolin and Ball Clay Mining | .................500
212325 | Clay and Ceramic and Refractory Minerals Mining | .................500
212391 | Potash, Soda, and Borate Mineral Mining | .................500
212392 | Phosphate Rock Mining | .................500
212393 | Other Chemical and Fertilizer Mineral Mining | .................500
212399 | All Other Nonmetallic Mineral Mining | .................500
213111 | Drilling Oil and Gas Wells | .................500
213112 | Support Activities for Oil and Gas Operations | .................$5.0
213113 | Support Activities for Coal Mining | .................$5.0
213114 | Support Activities for Metal Mining | .................$5.0
213115 | Support Activities for Nonmetallic Minerals (except Fuels) | .................$5.0
Sector 22—Utilities
Subsector 221—Utilities
221111 | Hydroelectric Power Generation | 4 mil megawatt hours¹
221112 | Fossil Fuel Electric Power Generation | 4 mil megawatt hours¹
221113 | Nuclear Electric Power Generation | 4 mil megawatt hours¹
221119 | Other Electric Power Generation | 4 mil megawatt hours¹
221121 | Electric Bulk Power Transmission and Control | 4 mil megawatt hours¹
221122 | Electric Power Distribution | 4 mil megawatt hours¹
221210 | Natural Gas Distribution | ..................500
221310 | Water Supply and Irrigation Systems | .................$5.0
221320 | Sewage Treatment Facilities | .................$5.0
221330 | Steam and Air-Conditioning Supply | .................9.0
Sector 23—Construction
Subsector 233—Building, Developing and General Contracting
233110 | 1Land Subdivision and Land Development | .................$5.0
233210 | Single Family Housing Construction | ...............17.0
233220 | Multifamily Housing Construction | ...............$17.0
233310 | Manufacturing and Industrial Building Construction | ...............$17.0
233320 | Commercial and Institutional Building Construction | .............$17.0
Subsection 234—Heavy Construction
234110 | Highway and Street Construction | .............$17.0
234120 | Bridge and Tunnel Construction | .............$17.0
234910 | Water, Sewer, and Pipeline Construction | .............$17.0
234920 | Power and Communication Transmission Line Construction | ..............$17.0
234930 | Industrial Nonbuilding Structure Construction | ..............$17.0
234990 | All Other Heavy Construction | ..............$17.0
EXCEPT | Except dredging and Surface Cleanup Activities | .............²$13.5
Subsector 235—Special Trade Contractors
235110 | Plumbing, Heating and Air-Conditioning Contractors | ...............$7.0
235210 | Painting and Wall Covering Contractors | ...............$7.0
235310 | Electrical Contractors | ...............$7.0
235410 | Masonry and Stone Contractors | ...............$7.0
235420 | Drywall, Plastering, Acoustical and Insulation Contractors | ...............$7.0
235430 | Tile, Marble, Terrazzo and Mosaic Contractors | ...............$7.0
235510 | Carpentry Contractors | ...............$7.0
235520 | Floor Laying and Other Floor Contractors | ...............$7.0
235610 | Roofing, Siding and Sheet Metal Contractors | ...............$7.0
235710 | Concrete Contractors | ...............$7.0
235810 | Water Well Drilling Contractors | ...............$7.0
235910 | Structural Steel Erection Contractors | ...............$7.0
235920 | Glass and Glazing Contractors | ...............$7.0
235930 | Excavation Contractors | ...............$7.0
235940 | Wrecking and Demolition Contractors | ...............$7.0
235950 | Building Equipment and Other Machinery Installation Contractors | ...............$7.0
235990 | All Other Special Trade Contractors | ...............$7.0
EXCEPT | Base Housing Maintenance¹³ | .............¹³$7.0
Sectors 31-33—Manufacturing
Subsector 311—Food Manufacturing
311111 | Dog and Cat Food Manufacturing | .............500
311119 | Other Animal Food Manufacturing | .............500
311211 | Flour Milling | .............500
311212 | Rice Milling | .............500
311213 | Malt Manufacturing | .............500
311221 | Wet Corn Milling | .............750
311222 | Soybean Processing | .............500
311223 | Other Oilseed Processing | ...........1,000
311225 | Fats and Oils Refining and Blending | ...........1,000
311230 | Breakfast Cereal Manufacturing | ...........1,000
311311 | Sugarcane Mills | .............500
311312 | Cane Sugar Refining | .............750
311313 | Beet Sugar Manufacturing | .............750
311320 | Chocolate and Confectionery Manufacturing from Cacao Beans | .............500
311330 | Confectionery Manufacturing from Purchased Chocolate | .............500
311340 | Non-Chocolate Confectionery Manufacturing | .............500
311411 | Frozen Fruit, Juice and Vegetable Manufacturing | .............500
311412 | Frozen Specialty Food Manufacturing | .............500
311421 | Fruit and Vegetable Canning | ...........¹⁴500
311422 | Specialty Canning | ...........1,000
311423 | Dried and Dehydrated Food Manufacturing | .............500
311511 | Fluid Milk Manufacturing | .............500
311512 | Creamery Butter Manufacturing | .............500
311513 | Cheese Manufacturing | .............500
311514 | Dry, Condensed, and Evaporated Dairy Product Manufacturing | .............500
311520 | Ice Cream and Frozen Dessert Manufacturing | .............500
311611 | Animal (except Poultry) Slaughtering | .............500
311612 | Meat Processed from Carcasses | .............500
311613 | Rendering and Meat By-product Processing | .............500
311615 | Poultry Processing | .............500
311711 | Seafood Canning | .............500
311712 | Fresh and Frozen Seafood Processing | .............500
311811 | Retail Bakeries | .............500
311812 | Commercial Bakeries | .............500
311813 | Frozen Cakes, Pies, and Other Pastries Manufacturing | .............500
311821 | Cookie and Cracker Manufacturing | .............750
311822 | Flour Mixes and Dough Manufacturing from Purchased Flour | .............500
311823 | Dry Pasta Manufacturing | .............500
311830 | Tortilla Manufacturing | .............500
311911 | Roasted Nuts and Peanut Butter Manufacturing | .............500
311919 | Other Snack Food Manufacturing | .............500
311920 | Coffee and Tea Manufacturing | .............500
311930 | Flavoring Syrup and Concentrate Manufacturing | .............500
311941 | Mayonnaise, Dressing and Other Prepared Sauce Manufacturing | .............500
311942 | Spice and Extract Manufacturing | .............500
311991 | Perishable Prepared Food Manufacturing | .............500
311999 | All Other Miscellaneous Food Manufacturing | .............500
Subsector 312—Beverage and Tobacco Product Manufacturing
312111 | Soft Drink Manufacturing | .............500
312112 | Bottled Water Manufacturing | .............500
312113 | Ice Manufacturing | .............500
312120 | Breweries | .............500
312130 | Wineries | .............500
312140 | Distilleries | .............750
312210 | Tobacco Stemming and Redrying | .............500
312221 | Cigarette Manufacturing | ...........1,000
312229 | Other Tobacco Product Manufacturing | .............500
Subsector 313—Textile Mills
313111 | Yarn Spinning Mills | .............500
313112 | Yarn Texturing, Throwing and Twisting Mills | .............500
313113 | Thread Mills | .............500
313210 | Broadwoven Fabric Mills | ...............1,000
313221 | Narrow Fabric Mills | ..................500
313222 | Schiffli Machine Embroidery | ..................500
313230 | Nonwoven Fabric Mills | ..................500
313241 | Weft Knit Fabric Mills | ..................500
313249 | Other Knit Fabric and Lace Mills | ..................500
313311 | Broadwoven Fabric Finishing Mills | ...............1,000
313312 | Textile and Fabric Finishing (except Broadwoven Fabric) Mills | ..................500
313320 | Fabric Coating Mills | ...............1,000
Subsector 314—Textile Product Mills
314110 | Carpet and Rug Mills | ..................500
314121 | Curtain and Drapery Mills | ..................500
314129 | Other Household Textile Product Mills | ..................500
314911 | Textile Bag Mills | ..................500
314912 | Canvas and Related Product Mills | ..................500
314991 | Rope, Cordage and Twine Mills | ..................500
314992 | Tire Cord and Tire Fabric Mills | ...............1,000
314999 | All Other Miscellaneous Textile Product Mills | ..................500
315—Apparel Manufacturing
315111 | Sheer Hosiery Mills | ..................500
315119 | Other Hosiery and Sock Mills | ..................500
315191 | Outerwear Knitting Mills | ..................500
315192 | Underwear and Nightwear Knitting Mills | ..................500
315211 | Men's and Boys' Cut and Sew Apparel Contractors | ..................500
315212 | Women's, Girls', and Infants' Cut and Sew Apparel Contractors | ..................500
315221 | Men's and Boys' Cut and Sew Underwear and Nightwear Manufacturing | ..................500
315222 | Men's and Boys' Cut and Sew Suit, Coat and Overcoat Manufacturing | ..................500
315223 | Men's and Boys' Cut and Sew Shirt (except Work Shirt) Manufacturing | ..................500
315224 | Men's and Boys' Cut and Sew Trouser, Slack and Jean Manufacturing | ..................500
315225 | Men's and Boys' Cut and Sew Work Clothing Manufacturing | ..................500
315228 | Men's and Boys' Cut and Sew Other Outerwear Manufacturing | ..................500
315231 | Women's and Girls' Cut and Sew Lingerie, Loungewear and Nightwear Manufacturing | ..................500
315232 | Women's and Girls' Cut and Sew Blouse and Shirt Manufacturing | ..................500
315233 | Women's and Girls' Cut and Sew Dress Manufacturing | ..................500
315234 | Women's and Girls' Cut and Sew Suit, Coat, Tailored Jacket and Skirt Manufacturing | ..................500
315239 | Women's and Girls' Cut and Sew Other Outerwear Manufacturing | ..................500
315291 | Infants' Cut and Sew Apparel Manufacturing | ..................500
315292 | Fur and Leather Apparel Manufacturing | ..................500
315299 | All Other Cut and Sew Apparel Manufacturing | ..................500
315991 | Hat, Cap and Millinery Manufacturing | ..................500
315992 | Glove and Mitten Manufacturing | ..................500
315993 | Men's and Boys' Neckwear Manufacturing | ..................500
315999 | Other Apparel Accessories and Other Apparel Manufacturing | ..................500
Subsector 316—Leather and Allied Product Manufacturing
316110 | Leather and Hide Tanning and Finishing | ..................500
316211 | Rubber and Plastics Footwear Manufacturing | ...............1,000
316212 | House Slipper Manufacturing | ..................500
316213 | Men's Footwear (except Athletic) Manufacturing | ..................500
316214 | Women's Footwear (except Athletic) Manufacturing | ..................500
316219 | Other Footwear Manufacturing | ..................500
316991 | Luggage Manufacturing | ..................500
316992 | Women's Handbag and Purse Manufacturing | ..................500
316993 | Personal Leather Good (except Women's Handbag and Purse) Manufacturing | ..................500
316999 | All Other Leather Good Manufacturing | ..................500
Subsector 321—Wood Product Manufacturing
321113 | Sawmills | ..................500
321114 | Wood Preservation | ..................500
321211 | Hardwood Veneer and Plywood Manufacturing | ..................500
321212 | Softwood Veneer and Plywood Manufacturing | ..................500
321213 | Engineered Wood Member (except Truss) Manufacturing | ..................500
321214 | Truss Manufacturing | ..................500
321219 | Reconstituted Wood Product Manufacturing | ..................500
321911 | Wood Window and Door Manufacturing | ..................500
321912 | Cut Stock, Resawing Lumber, and Planing | ..................500
321918 | Other Millwork (including Flooring) | ..................500
321920 | Wood Container and Pallet Manufacturing | ..................500
321991 | Manufactured Home (Mobile Home) Manufacturing | ..................500
321992 | Prefabricated Wood Building Manufacturing | ..................500
321999 | All Other Miscellaneous Wood Product Manufacturing | ..................500
Subsector 322—Paper Manufacturing
322110 | Pulp Mills | ..................750
322121 | Paper (except Newsprint) Mills | ..................750
322122 | Newsprint Mills | ..................750
322130 | Paperboard Mills | ..................750
322211 | Corrugated and Solid Fiber Box Manufacturing | ..................500
322212 | Folding Paperboard Box Manufacturing | ..................750
322213 | Setup Paperboard Box Manufacturing | ..................500
322214 | Fiber Can, Tube, Drum, and Similar Products Manufacturing | ..................500
322215 | Non-Folding Sanitary Food Container Manufacturing | ..................750
322221 | Coated and Laminated Packaging Paper and Plastics Film Manufacturing | ..................500
322222 | Coated and Laminated Paper Manufacturing | ..................500
322223 | Plastics, Foil, and Coated Paper Bag Manufacturing | ..................500
322224 | Uncoated Paper and Multiwall Bag Manufacturing | ..................500
322225 | Laminated Aluminum Foil Manufacturing for Flexible Packaging Uses | ..................500
322226 | Surface-Coated Paperboard Manufacturing | ..................500
322231 | Die-Cut Paper and Paperboard Office Supplies Manufacturing | ..................500
322232 | Envelope Manufacturing | ..................500
322233 | Stationery, Tablet, and Related Product Manufacturing | ..................500
322291 | Sanitary Paper Product Manufacturing | ..................500
322299 | All Other Converted Paper Product Manufacturing | ..................500
Subsector 323—Printing and Related Support Activities
323110 | Commercial Lithographic Printing | ..................500
323111 | Commercial Gravure Printing | ..................500
323112 | Commercial Flexographic Printing | ..................500
323113 | Commercial Screen Printing | ..................500
323114 | Quick Printing | ..................500
323115 | Digital Printing | ..................500
323116 | Manifold Business Form Printing | ..................500
323117 | Book Printing | ..................500
323118 | Blankbook, Loose-leaf Binder and Device Manufacturing | ..................500
323119 | Other Commercial Printing | ..................500
323121 | Tradebinding and Related Work | ..................500
323122 | Prepress Services | ..................500
Subsector 324—Petroleum and Coal Products Manufacturing
324110 | Petroleum Refineries | .............⁴ 1,500
324121 | Asphalt Paving Mixture and Block Manufacturing | ..................500
324122 | Asphalt Shingle and Coating Materials Manufacturing | ..................750
324191 | Petroleum Lubricating Oil and Grease Manufacturing | ..................500
324199 | All Other Petroleum and Coal Products Manufacturing | ..................500
Subsector 325—Chemical Manufacturing
325110 | Petrochemical Manufacturing | ...............1,000
325120 | Industrial Gas Manufacturing | ...............1,000
325131 | Inorganic Dye and Pigment Manufacturing | ...............1,000
325132 | Synthetic Organic Dye and Pigment Manufacturing | ..................750
325181 | Alkalies and Chlorine Manufacturing | ...............1,000
325182 | Carbon Black Manufacturing | ..................500
325188 | All Other Basic Inorganic Chemical Manufacturing | ...............1,000
325191 | Gum and Wood Chemical Manufacturing | ..................500
325192 | Cyclic Crude and Intermediate Manufacturing | ..................750
325193 | Ethyl Alcohol Manufacturing | ...............1,000
325199 | All Other Basic Organic Chemical Manufacturing | ...............1,000
325211 | Plastics Material and Resin Manufacturing | ..................750
325212 | Synthetic Rubber Manufacturing | ...............1,000
325221 | Cellulosic Organic Fiber Manufacturing | ...............1,000
325222 | Noncellulosic Organic Fiber Manufacturing | ...............1,000
325311 | Nitrogenous Fertilizer Manufacturing | ...............1,000
325312 | Phosphatic Fertilizer Manufacturing | ..................500
325314 | Fertilizer (Mixing Only) Manufacturing | ..................500
325320 | Pesticide and Other Agricultural Chemical Manufacturing | ..................500
325411 | Medicinal and Botanical Manufacturing | ..................750
325412 | Pharmaceutical Preparation Manufacturing | ..................750
325413 | In-Vitro Diagnostic Substance Manufacturing | ..................500
325414 | Biological Product (except Diagnostic) Manufacturing | ..................500
325510 | Paint and Coating Manufacturing | ..................500
325520 | Adhesive Manufacturing | ..................500
325611 | Soap and Other Detergent Manufacturing | ..................750
325612 | Polish and Other Sanitation Good Manufacturing | ..................500
325613 | Surface Active Agent Manufacturing | ..................500
325620 | Toilet Preparation Manufacturing | ..................500
325910 | Printing Ink Manufacturing | ..................500
325920 | Explosives Manufacturing | ..................750
325991 | Custom Compounding of Purchased Resin | ..................500
325992 | Photographic Film, Paper, Plate and Chemical Manufacturing | ..................500
325998 | All Other Chemical Product and Preparation Manufacturing | ..................500
Subsector 326—Plastics and Rubber Products Manufacturing
326111 | Unsupported Plastics Bag Manufacturing | ..................500
326112 | Unsupported Plastics Packaging Film and Sheet Manufacturing | ..................500
326113 | Unsupported Plastics Film and Sheet (except Packaging) Manufacturing | ..................500
326121 | Unsupported Plastics Profile Shape Manufacturing | ..................500
326122 | Plastics Pipe and Pipe Fitting Manufacturing | ..................500
326130 | Laminated Plastics Plate, Sheet and Shape Manufacturing | ..................500
326140 | Polystyrene Foam Product Manufacturing | ..................500
326150 | Urethane and Other Foam Product (except Polystyrene) Manufacturing | ..................500
326160 | Plastics Bottle Manufacturing | ..................500
326191 | Plastics Plumbing Fixture Manufacturing | ..................500
326192 | Resilient Floor Covering Manufacturing | ..................750
326199 | All Other Plastics Product Manufacturing | ..................500
326211 | Tire Manufacturing (except Retreading) | .............⁵ 1,000
326212 | Tire Retreading | ..................500
326220 | Rubber and Plastics Hoses and Belting Manufacturing | ..................500
326291 | Rubber Product Manufacturing for Mechanical Use | ..................500
326299 | All Other Rubber Product Manufacturing | ..................500
Subsector 327—Nonmetallic Mineral Product Manufacturing
327111 | Vitreous China Plumbing Fixtures and China and Earthenware Bathroom Accessories Manufacturing | ..................750
327112 | Vitreous China, Fine Earthenware and Other Pottery Product Manufacturing | ..................500
327113 | Porcelain Electrical Supply Manufacturing | ..................500
327121 | Brick and Structural Clay Tile Manufacturing | ..................500
327122 | Ceramic Wall and Floor Tile Manufacturing | ..................500
327123 | Other Structural Clay Product Manufacturing | ..................500
327124 | Clay Refractory Manufacturing | ..................500
327125 | Nonclay Refractory Manufacturing | ..................750
327211 | Flat Glass Manufacturing | ...............1,000
327212 | Other Pressed and Blown Glass and Glassware Manufacturing | ..................750
327213 | Glass Container Manufacturing | ..................750
327215 | Glass Product Manufacturing Made of Purchased Glass | ..................500
327310 | Cement Manufacturing | ..................750
327320 | Ready-Mix Concrete Manufacturing | ..................500
327331 | Concrete Block and Brick Manufacturing | ..................500
327332 | Concrete Pipe Manufacturing | ..................500
327390 | Other Concrete Product Manufacturing | ..................500
327410 | Lime Manufacturing | ..................500
327420 | Gypsum Product Manufacturing | ...............1,000
327910 | Abrasive Product Manufacturing | ..................500
327991 | Cut Stone and Stone Product Manufacturing | ..................500
327992 | Ground or Treated Mineral and Earth Manufacturing | ..................500
327993 | Mineral Wool Manufacturing | ..................750
327999 | All Other Miscellaneous Nonmetallic Mineral Product Manufacturing | .................500
Subsector 331—Primary Metal Manufacturing
331111 | Iron and Steel Mills | ...............1,000
331112 | Electrometallurgical Ferroalloy Product Manufacturing | ..................750
331210 | Iron and Steel Pipe and Tube Manufacturing from Purchased Steel | ...............1,000
331221 | Cold-Rolled Steel Shape Manufacturing | ...............1,000
331222 | Steel Wire Drawing | ...............1,000
331311 | Alumina Refining | ...............1,000
331312 | Primary Aluminum Production | ...............1,000
331314 | Secondary Smelting and Alloying of Aluminum | ..................750
331315 | Aluminum Sheet, Plate and Foil Manufacturing | ..................750
331316 | Aluminum Extruded Product Manufacturing | ..................750
331319 | Other Aluminum Rolling and Drawing | ..................750
331411 | Primary Smelting and Refining of Copper | ...............1,000
331419 | Primary Smelting and Refining of Nonferrous Metal (except Copper and Aluminum) | ..................750
331421 | Copper Rolling, Drawing and Extruding | ..................750
331422 | Copper Wire (except Mechanical) Drawing | ...............1,000
331423 | Secondary Smelting, Refining, and Alloying of Copper | ..................750
331491 | Nonferrous Metal (except Copper and Aluminum) Rolling, Drawing and Extruding | ..................750
331492 | Secondary Smelting, Refining, and Alloying of Nonferrous Metal (except Copper and Aluminum) | ..................750
331511 | Iron Foundries | ..................500
331512 | Steel Investment Foundries | ..................500
331513 | Steel Foundries, (except Investment) | ..................500
331521 | Aluminum Die-Casting Foundries | ..................500
331522 | Nonferrous (except Aluminum) Die-Casting Foundries | ..................500
331524 | Aluminum Foundries (except Die-Casting) | ..................500
331525 | Copper Foundries (except Die-Casting) | ..................500
331528 | Other Nonferrous Foundries (except Die-Casting) | ..................500
Subsector 332—Fabricated Metal Product Manufacturing
332111 | Iron and Steel Forging | ..................500
332112 | Nonferrous Forging | ..................500
332114 | Custom Roll Forming | ..................500
332115 | Crown and Closure Manufacturing | ..................500
332116 | Metal Stamping | ..................500
332117 | Powder Metallurgy Part Manufacturing | ..................500
332211 | Cutlery and Flatware (except Precious) Manufacturing | ..................500
332212 | Hand and Edge Tool Manufacturing | ..................500
332213 | Saw Blade and Handsaw Manufacturing | ..................500
332214 | Kitchen Utensil, Pot and Pan Manufacturing | ..................500
332311 | Prefabricated Metal Building and Component Manufacturing | ..................500
332312 | Fabricated Structural Metal Manufacturing | ..................500
332313 | Plate Work Manufacturing | ..................500
332321 | Metal Window and Door Manufacturing | ..................500
332322 | Sheet Metal Work Manufacturing | ..................500
332323 | Ornamental and Architectural Metal Work Manufacturing | ..................500
332410 | Power Boiler and Heat Exchanger Manufacturing | ..................500
332420 | Metal Tank (Heavy Gauge) Manufacturing | ..................500
332431 | Metal Can Manufacturing | ...............1,000
332439 | Other Metal Container Manufacturing | ..................500
332510 | Hardware Manufacturing | ..................500
332611 | Spring (Heavy Gauge) Manufacturing | ..................500
332612 | Spring (Light Gauge) Manufacturing | ..................500
332618 | Other Fabricated Wire Product Manufacturing | ..................500
332710 | Machine Shops | ..................500
332721 | Precision Turned Product Manufacturing | ..................500
332722 | Bolt, Nut, Screw, Rivet and Washer Manufacturing | ..................500
332811 | Metal Heat Treating | ..................750
332812 | Metal Coating, Engraving (except Jewelry and Silverware), and Allied Services to Manufacturers | ..................500
332813 | Electroplating, Plating, Polishing, Anodizing and Coloring | ..................500
332911 | Industrial Valve Manufacturing | ..................500
332912 | Fluid Power Valve and Hose Fitting Manufacturing | ..................500
332913 | Plumbing Fixture Fitting and Trim Manufacturing | ..................500
332919 | Other Metal Valve and Pipe Fitting Manufacturing | ..................500
332991 | Ball and Roller Bearing Manufacturing | ..................750
332992 | Small Arms Ammunition Manufacturing | ...............1,000
332993 | Ammunition (except Small Arms) Manufacturing | ...............1,500
332994 | Small Arms Manufacturing | ...............1,000
332995 | Other Ordnance and Accessories Manufacturing | ..................500
332996 | Fabricated Pipe and Pipe Fitting Manufacturing | ..................500
332997 | Industrial Pattern Manufacturing | ..................500
332998 | Enameled Iron and Metal Sanitary Ware Manufacturing | ..................750
332999 | All Other Miscellaneous Fabricated Metal Product Manufacturing | ..................500
Subsector 333—Machinery Manufacturing ⁶
333111 | Farm Machinery and Equipment Manufacturing | ..................500
333112 | Lawn and Garden Tractor and Home Lawn and Garden Equipment Manufacturing | ..................500
333120 | Construction Machinery Manufacturing | ..................750
333131 | Mining Machinery and Equipment Manufacturing | ..................500
333132 | Oil and Gas Field Machinery and Equipment Manufacturing | ..................500
333210 | Sawmill and Woodworking Machinery Manufacturing | ..................500
333220 | Plastics and Rubber Industry Machinery Manufacturing | ..................500
333291 | Paper Industry Machinery Manufacturing | ..................500
333292 | Textile Machinery Manufacturing | ..................500
333293 | Printing Machinery and Equipment Manufacturing | ..................500
333294 | Food Product Machinery Manufacturing | ..................500
333295 | Semiconductor Machinery Manufacturing | ..................500
333298 | All Other Industrial Machinery Manufacturing | ..................500
333311 | Automatic Vending Machine Manufacturing | ..................500
333312 | Commercial Laundry, Drycleaning and Pressing Machine Manufacturing | ..................500
333313 | Office Machinery Manufacturing | ...............1,000
333314 | Optical Instrument and Lens Manufacturing | ..................500
333315 | Photographic and Photocopying Equipment Manufacturing | ..................500
333319 | Other Commercial and Service Industry Machinery Manufacturing | ..................500
333411 | Air Purification Equipment Manufacturing | ..................500
333412 | Industrial and Commercial Fan and Blower Manufacturing | ..................500
333414 | Heating Equipment (except Warm Air Furnaces) Manufacturing | ..................500
333415 | Air-Conditioning and Warm Air Heating Equipment and Commercial and Industrial Refrigeration Equipment Manufacturing | ..................750
333511 | Industrial Mold Manufacturing | ..................500
333512 | Machine Tool (Metal Cutting Types) Manufacturing | ..................500
333513 | Machine Tool (Metal Forming Types) Manufacturing | ..................500
333514 | Special Die and Tool, Die Set, Jig and Fixture Manufacturing | ..................500
333515 | Cutting Tool and Machine Tool Accessory Manufacturing | ..................500
333516 | Rolling Mill Machinery and Equipment Manufacturing | ..................500
333518 | Other Metalworking Machinery Manufacturing | ..................500
333611 | Turbine and Turbine Generator Set Unit Manufacturing | ...............1,000
333612 | Speed Changer, Industrial High-Speed Drive and Gear Manufacturing | ..................500
333613 | Mechanical Power Transmission Equipment Manufacturing | ..................500
333618 | Other Engine Equipment Manufacturing | ...............1,000
333911 | Pump and Pumping Equipment Manufacturing | ..................500
333912 | Air and Gas Compressor Manufacturing | ..................500
333913 | Measuring and Dispensing Pump Manufacturing | ..................500
333921 | Elevator and Moving Stairway Manufacturing | ..................500
333922 | Conveyor and Conveying Equipment Manufacturing | ..................500
333923 | Overhead Traveling Crane, Hoist and Monorail System Manufacturing | ..................500
333924 | Industrial Truck, Tractor, Trailer and Stacker Machinery Manufacturing | ..................750
333991 | Power-Driven Hand Tool Manufacturing | ..................500
333992 | Welding and Soldering Equipment Manufacturing | ..................500
333993 | Packaging Machinery Manufacturing | ..................500
333994 | Industrial Process Furnace and Oven Manufacturing | ..................500
333995 | Fluid Power Cylinder and Actuator Manufacturing | ..................500
333996 | Fluid Power Pump and Motor Manufacturing | ..................500
333997 | Scale and Balance (except Laboratory) Manufacturing | ..................500
333999 | All Other Miscellaneous General Purpose Machinery Manufacturing | ..................500
Subsector 334—Computer and Electronic Product Manufacturing ⁶
334111 | Electronic Computer Manufacturing | ...............1,000
334112 | Computer Storage Device Manufacturing | ...............1,000
334113 | Computer Terminal Manufacturing | ...............1,000
334119 | Other Computer Peripheral Equipment Manufacturing | ...............1,000
334210 | Telephone Apparatus Manufacturing | ...............1,000
334220 | Radio and Television Broadcasting and Wireless Communications Equipment Manufacturing | ..................750
334290 | Other Communications Equipment Manufacturing | ..................750
334310 | Audio and Video Equipment Manufacturing | ..................750
334411 | Electron Tube Manufacturing | ..................750
334412 | Bare Printed Circuit Board Manufacturing | ..................500
334413 | Semiconductor and Related Device Manufacturing | ..................500
334414 | Electronic Capacitor Manufacturing | ..................500
334415 | Electronic Resistor Manufacturing | ..................500
334416 | Electronic Coil, Transformer, and Other Inductor Manufacturing | ..................500
334417 | Electronic Connector Manufacturing | ..................500
334418 | Printed Circuit Assembly (Electronic Assembly) Manufacturing | ..................500
334419 | Other Electronic Component Manufacturing | ..................500
334510 | Electromedical and Electrotherapeutic Apparatus Manufacturing | ..................500
334511 | Search, Detection, Navigation, Guidance, Aeronautical, and Nautical System and Instrument Manufacturing | ..................750
334512 | Automatic Environmental Control Manufacturing for Residential, Commercial and Appliance Use | ..................500
334513 | Instruments and Related Products Manufacturing for Measuring, Displaying, and Controlling Industrial Process Variables | ..................500
334514 | Totalizing Fluid Meter and Counting Device Manufacturing | ..................500
334515 | Instrument Manufacturing for Measuring and Testing Electricity and Electrical Signals | ..................500
334516 | Analytical Laboratory Instrument Manufacturing | ..................500
334517 | Irradiation Apparatus Manufacturing | ..................500
334518 | Watch, Clock, and Part Manufacturing | ..................500
334519 | Other Measuring and Controlling Device Manufacturing | ..................500
334611 | Software Reproducing | ..................500
334612 | Prerecorded Compact Disc (except Software), Tape, and Record Reproducing | ..................750
334613 | Magnetic and Optical Recording Media Manufacturing | ...............1,000
Subsector 335—Electrical Equipment, Appliance and Component Manufacturing ⁶
335110 | Electric Lamp Bulb and Part Manufacturing | ...............1,000
335121 | Residential Electric Lighting Fixture Manufacturing | ..................500
335122 | Commercial, Industrial and Institutional Electric Lighting Fixture Manufacturing | ..................500
335129 | Other Lighting Equipment Manufacturing | ..................500
335211 | Electric Housewares and Household Fan Manufacturing | ..................750
335212 | Household Vacuum Cleaner Manufacturing | ..................750
335221 | Household Cooking Appliance Manufacturing | ..................750
335222 | Household Refrigerator and Home Freezer Manufacturing | ...............1,000
335224 | Household Laundry Equipment Manufacturing | ...............1,000
335228 | Other Major Household Appliance Manufacturing | ..................500
335311 | Power, Distribution and Specialty Transformer Manufacturing | ..................750
335312 | Motor and Generator Manufacturing | ...............1,000
335313 | Switchgear and Switchboard Apparatus Manufacturing | ..................750
335314 | Relay and Industrial Control Manufacturing | ..................750
335911 | Storage Battery Manufacturing | ..................500
335912 | Primary Battery Manufacturing | ...............1,000
335921 | Fiber Optic Cable Manufacturing | ...............1,000
335929 | Other Communication and Energy Wire Manufacturing | ...............1,000
335931 | Current-Carrying Wiring Device Manufacturing | ..................500
335932 | Noncurrent-Carrying Wiring Device Manufacturing | ..................500
335991 | Carbon and Graphite Product Manufacturing | ..................750
335999 | All Other Miscellaneous Electrical Equipment and Component Manufacturing | ..................500
Subsector 336—Transportation Equipment Manufacturing ⁶
336111 | Automobile Manufacturing | .............1,000
336112 | Light Truck and Utility Vehicle Manufacturing | ...............1,000
336120 | Heavy Duty Truck Manufacturing | ...............1,000
336211 | Motor Vehicle Body Manufacturing | ...............1,000
336212 | Truck Trailer Manufacturing | ...............500
336213 | Motor Home Manufacturing | ...............1,000
336214 | Travel Trailer and Camper Manufacturing | ..................500
336311 | Carburetor, Piston, Piston Ring and Valve Manufacturing | ..................500
336312 | Gasoline Engine and Engine Parts Manufacturing | ..................750
336321 | Vehicular Lighting Equipment Manufacturing | ..................500
336322 | Other Motor Vehicle Electrical and Electronic Equipment Manufacturing | ..................750
336330 | Motor Vehicle Steering and Suspension Components (except Spring) Manufacturing | ..................750
336340 | Motor Vehicle Brake System Manufacturing | ..................750
336350 | Motor Vehicle Transmission and Power Train Parts Manufacturing | ..................750
336360 | Motor Vehicle Seating and Interior Trim Manufacturing | ..................500
336370 | Motor Vehicle Metal Stamping | ..................500
336391 | Motor Vehicle Air-Conditioning Manufacturing | ..................750
336399 | All Other Motor Vehicle Parts Manufacturing | ..................750
336411 | Aircraft Manufacturing | ...............1,500
336412 | Aircraft Engine and Engine Parts Manufacturing | ...............1,000
336413 | Other Aircraft Part and Auxiliary Equipment Manufacturing | ...............1,000
336414 | Guided Missile and Space Vehicle Manufacturing | ...............1,000
336415 | Guided Missile and Space Vehicle Propulsion Unit and Propulsion Unit Parts Manufacturing | ...............1,000
336419 | Other Guided Missile and Space Vehicle Parts and Auxiliary Equipment Manufacturing | ...............1,000
336510 | Railroad Rolling Stock Manufacturing | ...............1,000
336611 | Ship Building and Repairing | ...............1,000
336612 | Boat Building | ..................500
336991 | Motorcycle, Bicycle and Parts Manufacturing | ..................500
336992 | Military Armored Vehicle, Tank and Tank Component Manufacturing | ...............1,000
336999 | All Other Transportation Equipment Manufacturing | ..................500
Subsector 337—Furniture and Related Product Manufacturing
337110 | Wood Kitchen Cabinet and Counter Top Manufacturing | ..................500
337121 | Upholstered Household Furniture Manufacturing | ..................500
337122 | Nonupholstered Wood Household Furniture Manufacturing | ..................500
337124 | Metal Household Furniture Manufacturing | ..................500
337125 | Household Furniture (except Wood and Metal) Manufacturing | ..................500
337127 | Institutional Furniture Manufacturing | ..................500
337129 | Wood Television, Radio, and Sewing Machine Cabinet Manufacturing | ..................500
337211 | Wood Office Furniture Manufacturing | ..................500
337212 | Custom Architectural Woodwork and Millwork Manufacturing | ..................500
337214 | Office Furniture (Except Wood) Manufacturing | ..................500
337215 | Showcase, Partition, Shelving, and Locker Manufacturing | ..................500
337910 | Mattress Manufacturing | ..................500
337920 | Blind and Shade Manufacturing | ..................500
Subsector 339—Miscellaneous Manufacturing
339111 | Laboratory Apparatus and Furniture Manufacturing | ..................500
339112 | Surgical and Medical Instrument Manufacturing | ..................500
339113 | Surgical Appliance and Supplies Manufacturing | ..................500
339114 | Dental Equipment and Supplies Manufacturing | ..................500
339115 | Ophthalmic Goods Manufacturing | ..................500
339116 | Dental Laboratories | ..................500
339911 | Jewelry (except Costume) Manufacturing | ..................500
339912 | Silverware and Plated Ware Manufacturing | ..................500
339913 | Jewelers' Material and Lapidary Work Manufacturing | ..................500
339914 | Costume Jewelry and Novelty Manufacturing | ..................500
339920 | Sporting and Athletic Goods Manufacturing | ..................500
339931 | Doll and Stuffed Toy Manufacturing | ..................500
339932 | Game, Toy, and Children's Vehicle Manufacturing | ..................500
339941 | Pen and Mechanical Pencil Manufacturing | ..................500
339942 | Lead Pencil and Art Good Manufacturing | ..................500
339943 | Marking Device Manufacturing | ..................500
339944 | Carbon Paper and Inked Ribbon Manufacturing | ..................500
339950 | Sign Manufacturing | ..................500
339991 | Gasket, Packing, and Sealing Device Manufacturing | ..................500
339992 | Musical Instrument Manufacturing | ..................500
339993 | Fastener, Button, Needle and Pin Manufacturing | ..................500
339994 | Broom, Brush and Mop Manufacturing | ..................500
339995 | Burial Casket Manufacturing | ..................500
339999 | All Other Miscellaneous Manufacturing | ..................500
Sector 42—Wholesale Trade
(Not applicable to Government procurement of supplies. The nonmanufacturer size standard of 500 employees shall be used for purposes of Government procurement of supplies.)
Subsector 421—Wholesale Trade—Durable Goods
421110 | Automobile and Other Motor Vehicle Wholesalers | ..................100
421120 | Motor Vehicle Supplies and New Part Wholesalers | ..................100
421130 | Tire and Tube Wholesalers | ..................100
421140 | Motor Vehicle Part (Used) Wholesalers | ..................100
421210 | Furniture Wholesalers | ..................100
421220 | Home Furnishing Wholesalers | ..................100
421310 | Lumber, Plywood, Millwork and Wood Panel Wholesalers | ..................100
421320 | Brick, Stone and Related Construction Material Wholesalers | ..................100
421330 | Roofing, Siding and Insulation Material Wholesalers | ..................100
421390 | Other Construction Material Wholesalers | ..................100
421410 | Photographic Equipment and Supplies Wholesalers | ..................100
421420 | Office Equipment Wholesalers | ..................100
421430 | Computer and Computer Peripheral Equipment and Software Wholesalers | ..................100
421440 | Other Commercial Equipment Wholesalers | ..................100
421450 | Medical, Dental and Hospital Equipment and Supplies Wholesalers | ..................100
421460 | Ophthalmic Goods Wholesalers | ..................100
421490 | Other Professional Equipment and Supplies Wholesalers | ..................100
421510 | Metal Service Centers and Offices | ..................100
421520 | Coal and Other Mineral and Ore Wholesalers | ..................100
421610 | Electrical Apparatus and Equipment, Wiring Supplies and Construction Material Wholesalers | ..................100
421620 | Electrical Appliance, Television and Radio Set Wholesalers | ..................100
421690 | Other Electronic Parts and Equipment Wholesalers | ..................100
421710 | Hardware Wholesalers | ..................100
421720 | Plumbing and Heating Equipment and Supplies (Hydronics) Wholesalers | ..................100
421730 | Warm Air Heating and Air-Conditioning Equipment and Supplies Wholesalers | ..................100
421740 | Refrigeration Equipment and Supplies Wholesalers | ..................100
421810 | Construction and Mining (except Petroleum) Machinery and Equipment Wholesalers | ..................100
421820 | Farm and Garden Machinery and Equipment Wholesalers | ..................100
421830 | Industrial Machinery and Equipment Wholesalers | ..................100
421840 | Industrial Supplies Wholesalers | ..................100
421850 | Service Establishment Equipment and Supplies Wholesalers | ..................100
421860 | Transportation Equipment and Supplies (except Motor Vehicle) Wholesalers | ..................100
421910 | Sporting and Recreational Goods and Supplies Wholesalers | ..................100
421920 | Toy and Hobby Goods and Supplies Wholesalers | ..................100
421930 | Recyclable Material Wholesalers | ..................100
421940 | Jewelry, Watch, Precious Stone and Precious Metal Wholesalers | ..................100
421990 | Other Miscellaneous Durable Goods Wholesalers | ..................100
Subsector 422—Wholesale Trade—Nondurable Goods
422110 | Printing and Writing Paper Wholesalers | ..................100
422120 | Stationary and Office Supplies Wholesalers | ..................100
422130 | Industrial and Personal Service Paper Wholesalers | ..................100
422210 | Drugs and Druggists' Sundries Wholesalers | ..................100
422310 | Piece Goods, Notions and Other Dry Goods Wholesalers | ..................100
422320 | Men's and Boys' Clothing and Furnishings Wholesalers | ..................100
422330 | Women's, Children's, and Infants' Clothing and Accessories Wholesalers | ..................100
422340 | Footwear Wholesalers | ..................100
422410 | General Line Grocery Wholesalers | ..................100
422420 | Packaged Frozen Food Wholesalers | ..................100
422430 | Dairy Product (except Dried or Canned) Wholesalers | ..................100
422440 | Poultry and Poultry Product Wholesalers | ..................100
422450 | Confectionery Wholesalers | ..................100
422460 | Fish and Seafood Wholesalers | ..................100
422470 | Meat and Meat Product Wholesalers | ..................100
422480 | Fresh Fruit and Vegetable Wholesalers | ..................100
422490 | Other Grocery and Related Products Wholesalers | ..................100
422510 | Grain and Field Bean Wholesalers | ..................100
422520 | Livestock Wholesalers | ..................100
422590 | Other Farm Product Raw Material Wholesalers | ..................100
422610 | Plastics Materials and Basic Forms and Shapes Wholesalers | ..................100
422690 | Other Chemical and Allied Products Wholesalers | ..................100
422710 | Petroleum Bulk Stations and Terminals | ..................100
422720 | Petroleum and Petroleum Products Wholesalers (except Bulk Stations and Terminals) | ..................100
422810 | Beer and Ale Wholesalers | ..................100
422820 | Wine and Distilled Alcoholic Beverage Wholesalers | ..................100
422910 | Farm Supplies Wholesalers | ..................100
422920 | Book, Periodical and Newspaper Wholesalers | ..................100
422930 | Flower, Nursery Stock and Florists' Supplies Wholesalers | ..................100
422940 | Tobacco and Tobacco Product Wholesalers | ..................100
422950 | Paint, Varnish and Supplies Wholesalers | ..................100
422990 | Other Miscellaneous Nondurable Goods Wholesalers | ..................100
Sectors 44-45—Retail Trade
Subsector 441—Motor Vehicle and Parts Dealers
441110 | New Car Dealers | ..............$21.0
441120 | Used Car Dealers | ..............$17.0
441210 | Recreational Vehicle Dealers | ..............$5.0
441221 | Motorcycle Dealers | ..............$5.0
441222 | Boat Dealers | ..............$5.0
441229 | All Other Motor Vehicle Dealers | ..............$5.0
EXCEPT | Aircraft Dealers, Retail | ..............$7.5
441310 | Automotive Parts and Accessories Stores | ..............$5.0
441320 | Tire Dealers | ..............$5.0
Subsector 442—Furniture and Home Furnishings Stores
442110 | Furniture Stores | ..............$5.0
442210 | Floor Covering Stores | ..............$5.0
442291 | Window Treatment Stores | ..............$5.0
442299 | All Other Home Furnishings Stores | ..............$5.0
Subsector 443—Electronics and Appliance Stores
443111 | Household Appliance Stores | ..............$6.5
443112 | Radio, Television and Other Electronics Stores | ..............$6.5
443120 | Computer and Software Stores | ..............$6.5
443130 | Camera and Photographic Supplies Stores | ..............$5.0
Subsector 444—Building Material and Garden Equipment and Supplies Dealers
444110 | Home Centers | ..............$5.0
444120 | Paint and Wallpaper Stores | ..............$5.0
444130 | Hardware Stores | ..............$5.0
444190 | Other Building Material Dealers | ..............$5.0
444210 | Outdoor Power Equipment Stores | ..............$5.0
444220 | Nursery and Garden Centers | ..............$5.0
Subsector 445—Food and Beverage Stores
445110 | Supermarkets and Other Grocery (except Convenience) Stores | ..............$20.0
445120 | Convenience Stores | ..............$20.0
445210 | Meat Markets | ..............$5.0
445220 | Fish and Seafood Markets | .................$5.0
445230 | Fruit and Vegetable Markets | .................$5.0
445291 | Baked Goods Stores | .................$5.0
445292 | Confectionery and Nut Stores | .................$5.0
445299 | All Other Specialty Food Stores | .................$5.0
445310 | Beer, Wine and Liquor Stores | .................$5.0
Subsector 446—Health and Personal Care Stores
446110 | Pharmacies and Drug Stores | .................$5.0
446120 | Cosmetics, Beauty Supplies and Perfume Stores | .................$5.0
446130 | Optical Goods Stores | .................$5.0
446191 | Food (Health) Supplement Stores | .................$5.0
446199 | All Other Health and Personal Care Stores | .................$5.0
Subsector 447—Gasoline Stations
447110 | Gasoline Stations with Convenience Stores | ...............$20.0
447190 | Other Gasoline Stations | ...............$6.5
Subsector 448—Clothing and Clothing Accessories Stores
448110 | Men's Clothing Stores | .................$6.5
448120 | Women's Clothing Stores | .................$6.5
448130 | Children's and Infants' Clothing Stores | .................$6.5
448140 | Family Clothing Stores | .................$6.5
448150 | Clothing Accessories Stores | .................$6.5
448190 | Other Clothing Stores | ...............$5.0
448210 | Shoe Stores | ...............$6.5
448310 | Jewelry Stores | .................$5.0
448320 | Luggage and Leather Goods Stores | .................$5.0
Subsector 451—Sporting Good, Hobby, Book and Music Stores
451110 | Sporting Goods Stores | ...............$5.0
451120 | Hobby, Toy and Game Stores | ...............$5.0
451130 | Sewing, Needlework and Piece Goods Stores | ...............$5.0
451140 | Musical Instrument and Supplies Stores | ...............$5.0
451211 | Book Stores | ...............$5.0
451212 | News Dealers and Newsstands | .................$5.0
451220 | Prerecorded Tape, Compact Disc and Record Stores | ...............$5.0
Subsector 452—General Merchandise Stores
452110 | Department Stores | ...............$20.0
452910 | Warehouse Clubs and Superstores | ...............$20.0
452990 | All Other General Merchandise Stores | ...............$$8.0
Subsector 453—Miscellaneous Store Retailers
453110 | Florists | ...............$5.0
453210 | Office Supplies and Stationery Stores | ...............$5.0
453220 | Gift, Novelty and Souvenir Stores | ...............$5.0
453310 | Used Merchandise Stores | ...............$5.0
453910 | Pet and Pet Supplies Stores | ...............$5.0
453920 | Art Dealers | ...............$5.0
453930 | Manufactured (Mobile) Home Dealers | ...............$9.5
453991 | Tobacco Stores | ...............$5.0
453998 | All Other Miscellaneous Store Retailers (except Tobacco Stores) | ...............$5.0
454110 | Electronic Shopping and Mail-Order Houses | ...............$8.5
454210 | Vending Machine Operators | ...............$5.0
454311 | Heating Oil Dealers | ...............$$9.0
454312 | Liquefied Petroleum Gas (Bottled Gas) Dealers | ...............$5.0
454319 | Other Fuel Dealers | ...............$5.0
454390 | Other Direct Selling Establishments | ...............$5.0
Sectors 48—49—Transportation
Subsector 481—Air Transportation
481111 | Scheduled Passenger Air Transportation | ...........$1,500
481112 | Scheduled Freight Air Transportation | ...........$1,500
481211 | Nonscheduled Chartered Passenger Air Transportation | ............$1,500
Except | Offshore Marine Air Transportation Services | ...............$20.0
481212 | Nonscheduled Chartered Freight Air Transportation 1,500 EXCEPT Except Offshore Marine Air Transportation Services $20.0 481219 Other Nonscheduled Air Transportation $5.0
Subsector 482—Rail Transportation
482111 | Line-Haul Railroads | ...............$500
482112 | Short Line Railroads | ...............$500
Subsector 483—Water Transportation
483111 | Deep Sea Freight Transportation | ...............$500
483112 | Deep Sea Passenger Transportation | ...............$500
483113 | Coastal and Great Lakes Freight Transportation | ...............$500
483114 | Coastal and Great Lakes Passenger Transportation | ...............$500
483211 | Inland Water Freight Transportation | ...............$500
483212 | Inland Water Passenger Transportation | ..............$500
Subsector 484—Truck Transportation
484110 | General Freight Trucking, Local | ...............$18.5
484121 | General Freight Trucking, Long-Distance, Truckload | ...............$18.5
484122 | General Freight Trucking, Long-Distance, Less Than Truckload | ...............$18.5
484210 | Used Household and Office Goods Moving | ...............$18.5
484220 | Specialized Freight (except Used Goods) Trucking, Local | ...............$18.5
484230 | Specialized Freight (except Used Goods) Trucking, Long-Distance | ...............$18.5
Subsector 485—Transit and Ground Passenger Transportation
485110 | Mixed Mode Transit Systems | .................$5.0
485112 | Commuter Rail Systems | .................$5.0
485113 | Bus and Motor Vehicle Transit Systems | .................$5.0
485119 | Other Urban Transit Systems | .................$5.0
485210 | Interurban and Rural Bus Transportation | .................$5.0
485310 | Taxi Service | .................$5.0
485320 | Limousine Service | .................$5.0
485410 | School and Employee Bus Transportation | .................$5.0
485510 | Charter Bus Industry | .................$5.0
485991 | Special Needs Transportation | .................$5.0
485999 | All Other Transit and Ground Passenger Transportation | .................$5.0
Subsector 486—Pipeline Transportation
486110 | Pipeline Transportation of Crude Oil | ............1,500
486210 | Pipeline Transportation of Natural Gas | .................$5.0
486910 | Pipeline Transportation of Refined Petroleum Products | ............1,500
486990 | All Other Pipeline Transportation | ..............$25.0
Subsector 487—Scenic and Sightseeing Transportation
487110 | Scenic and Sightseeing Transportation, Land | .................$5.0
487210 | Scenic and Sightseeing Transportation, Water | .................$5.0
487990 | Scenic and Sightseeing Transportation, Other | .................$5.0
Subsector 488—Support Activities for Transportation
488111 | Air Traffic Control | .................$5.0
488119 | Other Airport Operations | .................$5.0
488190 | Other Support Activities for Air Transportation | .................$5.0
488210 | Support Activities for Rail Transportation | .................$5.0
488310 | Port and Harbor Operations | ...............$18.5
488320 | Marine Cargo Handling | ...............$18.5
488330 | Navigational Services to Shipping | .................$5.0
488390 | Other Support Activities for Water Transportation | .................$5.0
488410 | Motor Vehicle Towing | .................$5.0
488490 | Other Support Activities for Road Transportation | .................$5.0
488510 | Freight Transportation Arrangement | ...............$18.5
488991 | Packing and Crating | ...............$18.5
488999 | All Other Support Activities for Transportation | .................$5.0
Subsector 491—Postal Service
491110 | Postal Service | .................$5.0
Subsector 492—Couriers and Messengers
492110 | Couriers | ............1,500
492210 | Local Messengers and Local Delivery | ...............$18.5
Subsector 493—Warehousing and Storage
493110 | General Warehousing and Storage | ...............$18.5
493120 | Refrigerated Warehousing and Storage | ...............$18.5
493130 | Farm Product Warehousing and Storage | ...............$18.5
493190 | Other Warehousing and Storage | ...............$18.5
Sector 51—Information
Subsector 511—Publishing Industries
511110 | Newspaper Publishers | ..................500
511120 | Periodical Publishers | .................500
511130 | Book Publishers | .................500
511140 | Database and Directory Publishers | ..................500
511191 | Greeting Card Publishers | .................500
511199 | All Other Publishers | .................500
511210 | Software Publishers $18.0
Subsector 512—Motion Picture and Sound Recording Industries
512110 | Motion Picture and Video Production | ...............$21.5
512120 | Motion Picture and Video Distribution | ...............$21.5
512131 | Motion Picture Theaters (except Drive-Ins) | .................$5.0
512132 | Drive-In Motion Picture Theaters | .................$5.0
512191 | Teleproduction and Other Post-Production Services | ...............$21.5
512199 | Other Motion Picture and Video Industries | .................$5.0
512210 | Record Production | .................$5.0
512220 | Integrated Record Production/Distribution | ..................750
512230 | Music Publishers | .................500
512240 | Sound Recording Studios | ...............$5.0
512290 | Other Sound Recording Industries | ...............$5.0
Subsector 513—Broadcasting and Telecommunications
513111 | Radio Networks | ...............$5.0
513112 | Radio Stations | ...............$5.0
513120 | Television Broadcasting | ...............$10.5
513210 | Cable Networks | ...............$11.0
513220 | Cable and Other Program Distribution | ...............$11.0
513310 | Wired Telecommunications Carriers | ...............1,500
513321 | Paging | ...............1,500
513322 | Cellular and Other Wireless Telecommunications | ..............1,500
513330 | Telecommunications Resellers | ..............1,500
513340 | Satellite Telecommunications | ...............$11.0
513390 | Other Telecommunications | ...............$11.0
Subsector 514—Information Services and Data Processing Services
514110 | News Syndicates | .................$5.0
514120 | Libraries and Archives | .................$5.0
514191 | On-Line Information Services | ...............$18.0
514199 | All Other Information Services | .................$5.0
514210 | Data Processing Services | ...............$18.0
Sector 52—Finance and Insurance
Subsector 522—Credit Intermediation and Related Activities
522110 | Commercial Banking | $100 mil in assets ⁸
522120 | Savings Institutions | $100 mil in assets
522130 | Credit Unions | $100 mil in assets
522190 | Other Depository Credit Intermediation | $100 mil in assets
522210 | Credit Card Issuing | $100 mil in assets
522220 | Sales Financing | ................$5.0
522291 | Consumer Lending | ...............$5.0
522292 | Real Estate Credit | .................$5.0
522293 | International Trade Financing | $100 mil in assets
522294 | Secondary Market Financing | .................$5.0
522298 | All Other Non-Depository Credit Intermediation | .................$5.0
522310 | Mortgage and Nonmortgage Loan Brokers | .................$5.0
522320 | Financial Transactions Processing, Reserve, and Clearing House Activities | .................$5.0
522390 | Other Activities Related to Credit Intermediation | .................$5.0
Subsector 523—Financial Investments and Related Activities
523110 | Investment Banking and Securities Dealing | .................$5.0
523120 | Securities Brokerage | .................$5.0
523130 | Commodity Contracts Dealing | .................$5.0
523140 | Commodity Contracts Brokerage | .................$5.0
523210 | Securities and Commodity Exchanges | .................$5.0
523910 | Miscellaneous Intermediation | .................$5.0
523920 | Portfolio Management | .................$5.0
523930 | Investment Advice | .................$5.0
523991 | Trust, Fiduciary and Custody Activities | .................$5.0
523999 | Miscellaneous Financial Investment Activities | .................$5.0
Subsector 524—Insurance Carriers and Related Activities
524113 | Direct Life Insurance Carriers | .................$5.0
524114 | Direct Health and Medical Insurance Carriers | .................$5.0
524126 | Direct Property and Casualty Insurance Carriers | ..............1,500
524127 | Direct Title Insurance Carriers | .................$5.0
524128 | Other Direct Insurance (except Life, Health and Medical) Carriers | ................$5.0
524130 | Reinsurance Carriers | ................$5.0
524210 | Insurance Agencies and Brokerages | ................$5.0
524291 | Claims Adjusting | .................$5.0
524292 | Third Party Administration of Insurance and Pension Funds | .................$5.0
524298 | All Other Insurance Related Activities | .................$5.0
Subsector 525—Funds, Trusts and Other Financial Vehicles
525110 | Pension Funds | .................$5.0
525120 | Health and Welfare Funds | ............$5.0
525190 | Other Insurance Funds | ...............$5.0
525910 | Open-End Investment Funds | ............$5.0
525920 | Trusts, Estates, and Agency Accounts | ............$5.0
525930 | Real Estate Investment Trusts | ............$5.0
525990 | Other Financial Vehicles | ............$5.0
Sector 53—Real Estate and Rental and Leasing
Subsector 531—Real Estate 531110
53110 | Lessors of Residential Buildings and Dwellings | ............$5.0
531120 | Lessors of Nonresidential Buildings (except Miniwarehouses) | ..............$5.0
531130 | Lessors of Miniwarehouses and Self Storage Units | ...............$18.5
531190 | Lessors of Other Real Estate Property | .................$5.0
EXCEPT | Leasing of Building Space to Federal Government by Owners | .............⁹ $15.0
531210 | Offices of Real Estate Agents and Brokers | ............¹⁰ $1.5
531311 | Residential Property Managers | .................$1.5
531312 | Nonresidential Property Managers | .................$1.5
Subsector 532—Rental and Leasing Services
532111 | Passenger Car Rental | ...............$18.5
532112 | Passenger Car Leasing | ...............$18.5
53212 | Truck, Utility Trailer, and RV (Recreational Vehicle) Rental and Leasing | ...............$18.5
532210 | Consumer Electronics and Appliances Rental | .............$5.0
532220 | Formal Wear and Costume Rental | ............$5.0
532230 | Video Tape and Disc Rental | ............$5.0
532291 | Home Health Equipment Rental | .............$5.0
532292 | Recreational Goods Rental | ............$5.0
532299 | All Other Consumer Goods Rental | ............$5.0
532310 | General Rental Centers | ............$5.0
532411 | Commercial Air, Rail, and Water Transportation Equipment Rental and Leasing | ............$5.0
532412 | Construction, Mining and Forestry Machinery and Equipment Rental and Leasing | ............$5.0
532420 | Office Machinery and Equipment Rental and Leasing | ..........$18.0
532490 | Other Commercial and Industrial Machinery and Equipment Rental and Leasing | ............$5.0
Subsector 533—Lessors of Nonfinancial Intangible Assets (except Copyrighted Works)
533110 | Lessors of Nonfinancial Intangible Assets (except Copyrighted Works) | .................$5.0
Sector 54—Professional, Scientific and Technical Services
Subsector 541—Professional, Scientific and Technical Services
541110 | Offices of Lawyers | .................$5.0
541191 | Title Abstract and Settlement Offices | .................$5.0
541199 | All Other Legal Services | .................$5.0
541211 | Offices of Certified Public Accountants | .................$6.0
541213 | Tax Preparation Services | .................$5.0
541214 | Payroll Services | .................$6.0
541219 | Other Accounting Services | .................$6.0
541310 | Architectural Services | .................$4.0
541320 | Landscape Architectural Services | .................$5.0
541330 | Engineering Services | .................$4.0
EXCEPT | Military and Aerospace Equipment and Military Weapons | ...............$20.0
EXCEPT | Contracts and Subcontracts for Engineering Services Awarded Under the National Energy Policy Act of 1992 | ...............$20.0
EXCEPT | Marine Engineering and Naval Architecture | ...............$13.5
541340 | Drafting Services | .................$5.0
EXCEPT | Map Drafting | .................$4.0
541350 | Building Inspection Services | .................$5.0
541360 | Geophysical Surveying and Mapping Services | .................$4.0
541370 | Surveying and Mapping (except Geophysical) Services | .................$4.0
EXCEPT | Mapmaking | .................$4.0
541380 | Testing Laboratories | .................$5.0
541410 | Interior Design Services | .................$5.0
541420 | Industrial Design Services | .................$5.0
541430 | Graphic Design Services | .................$5.0
541490 | Other Specialized Design Services | .................$5.0
541511 | Custom Computer Programming Services | ...............$18.0
541512 | Computer Systems Design Services | ...............$18.0
541513 | Computer Facilities Management Services | ...............$18.0
541519 | Other Computer Related Services | ...............$18.0
541611 | Administrative Management and General Management Consulting Services | .................$5.0
541612 | Human Resources and Executive Search Consulting Services | .................$5.0
541613 | Marketing Consulting Services | .................$5.0
541614 | Process, Physical Distribution and Logistics Consulting Services | .................$5.0
541618 | Other Management Consulting Services | .................$5.0
541620 | Environmental Consulting Services | .................$5.0
541690 | Other Scientific and Technical Consulting Services | .................$5.0
541710 | Research and Development in the Physical, Engineering, and Life Sciences | ............¹¹500
EXCEPT | Aircraft | ...........1,500
EXCEPT | Aircraft Parts, and Auxiliary Equipment, and Aircraft Engine Parts | ...........1,000
EXCEPT | Space Vehicles and Guided Missiles, their Propulsion Units, their Propulsion Units Parts, and their Auxiliary Equipment and Parts | ...........1,000
541720 | Research and Development in the Social Sciences and Humanities | ..........$5.0
541810 | Advertising Agencies | ..........¹⁰ $5.0
541820 | Public Relations Agencies | .............$5.0
541830 | Media Buying Agencies | .............$5.0
541840 | Media Representatives | .............$5.0
541850 | Display Advertising | .............$5.0
541860 | Direct Mail Advertising | .............$5.0
541870 | Advertising Material Distribution Services | .............$5.0
541890 | Other Services Related to Advertising | ............$5.0
541910 | Marketing Research and Public Opinion Polling | ............$5.0
541921 | Photography Studios, Portrait | ............$5.0
541922 | Commercial Photography | ............$5.0
541930 | Translation and Interpretation Services | ............$5.0
541940 | Veterinary Services | ............$5.0
541990 | All Other Professional, Scientific and Technical Services | ............$5.0
Sector 55—Management of Companies and Enterprises
Subsector 551—Management of Companies and Enterprises
551111 | Offices of Bank Holding Companies | ...........$5.0
551112 | Offices of Other Holding Companies | ............$5.0
Sector 56—Administrative and Support, Waste Management and Remediation Services
Subsector 561—Administrative and Support Services
561110 | Office Administrative Services | ............$5.0
561210 | Facilities Support Services12 | ..............¹²$5.0
EXCEPT | Base Maintenance \131\ | ............¹³$20.0
561310 | Employment Placement Agencies | .................$5.0
561320 | Temporary Help Services | .................$5.0
561330 | Employee Leasing Services | .................$5.0
561410 | Document Preparation Services | .................$5.0
561421 | Telephone Answering Services | .................$5.0
561422 | Telemarketing Bureaus | .................$5.0
561431 | Private Mail Centers | .................$5.0
561439 | Other Business Service Centers (including Copy Shops) | .................$5.0
561440 | Collection Agencies | .................$5.0
561450 | Credit Bureaus | .................$5.0
561491 | Repossession Services | .................$5.0
561492 | Court Reporting and Stenotype Services | .................$5.0
561499 | All Other Business Support Services | .................$5.0
561510 | Travel Agencies | ..........¹⁰ $1.0
561520 | Tour Operators | .............$5.0
561591 | Convention and Visitors Bureaus | .............$5.0
561599 | All Other Travel Arrangement and Reservation Services | .............$5.0
561611 | Investigation Services | .............$9.0
561612 | Security Guards and Patrol Services | .............$9.0
561613 | Armored Car Services | .............$9.0
561621 | Security Systems Services (except Locksmiths) | .............$9.0
561622 | Locksmiths | .............$5.0
561710 | Exterminating and Pest Control Services | .............$5.0
561720 | Janitorial Services | ...........$12.0
561730 | Landscaping Services | .............$5.0
561740 | Carpet and Upholstery Cleaning Services | .............$3.5
561790 | Other Services to Buildings and Dwellings | ............$5.0
561910 | Packaging and Labeling Services | .............$5.0
561920 | Convention and Trade Show Organizers | ..........¹⁰ $5.0
561990 | All Other Support Services | .............$5.0
562111 | Solid Waste Collection | .............$6.0
Subsector 562—Waste Management and Remediation Services
562112 | Hazardous Waste Collection | .............$6.0
562119 | Other Waste Collection | .............$6.0
562211 | Hazardous Waste Treatment and Disposal | .............$6.0
562212 | Solid Waste Landfill | .............$6.0
562213 | Solid Waste Combustors and Incinerators | .............$6.0
562219 | Other Nonhazardous Waste Treatment and Disposal | .............$6.0
562910 | Remediation Services | .............$7.0
EXCEPT | Environmental Remediation Services | .........¹⁴ 500
562920 | Materials Recovery Facilities | .............$6.0
562991 | Septic Tank and Related Services | .............$5.0
562998 | All Other Miscellaneous Waste Management Services | .............$5.0
Sector 61—Educational Services
Subsector 611—Educational Services
611110 | Elementary and Secondary Schools | ...........$5.0
611210 | Junior Colleges | .............$5.0
611310 | Colleges, Universities and Professional Schools | .............$5.0
611410 | Business and Secretarial Schools | ............$5.0
611420 | Computer Training | .............$5.0
611430 | Professional and Management Development Training | .............$5.0
611511 | Cosmetology and Barber Schools | .......$5.0
611512 | Flight Training | ............$18.5
611513 | Apprenticeship Training | ..............$5.0
611519 | Other Technical and Trade Schools | ..............$5.0
611610 | Fine Art Schools | ..............$5.0
611620 | Sports and Recreation Instruction | ..............$5.0
611630 | Language Schools | ..............$5.0
611691 | Exam Preparation and Tutoring | ..............$5.0
611692 | Automobile Driving Schools | ..............$5.0
611699 | All Other Miscellaneous Schools and Instruction | ..............$5.0
611710 | Educational Support Services | ..............$5.0
Sector 62—Health Care and Social Assistance
Subsector 621—Ambulatory Health Care Services
621111 | Offices of Physicians (except Mental Health Specialists) | ..............$5.0
621112 | Offices of Physicians, Mental Health Specialists | ..............$5.0
621210 | Offices of Dentists | ..............$5.0
621310 | Offices of Chiropractors | ..............$5.0
621320 | Offices of Optometrists | ..............$5.0
621330 | Offices of Mental Health Practitioners (except Physicians) | ..............$5.0
621340 | Offices of Physical, Occupational and Speech Therapists and Audiologists | ..............$5.0
621391 | Offices of Podiatrists | ..............$5.0
621399 | Offices of All Other Miscellaneous Health Practitioners | ..............$5.0
621410 | Family Planning Centers | ..............$5.0
621420 | Outpatient Mental Health and Substance Abuse Centers | ..............$5.0
621491 | HMO Medical Centers | ..............$5.0
621492 | Kidney Dialysis Centers | .............$5.0
621493 | Freestanding Ambulatory Surgical and Emergency Centers | ..............$5.0
621498 | All Other Outpatient Care Centers | ..............$5.0
621511 | Medical Laboratories | ..............$5.0
621512 | Diagnostic Imaging Centers | ..............$5.0
621610 | Home Health Care Services | ..............$5.0
621910 | Ambulance Services | ..............$5.0
621991 | Blood and Organ Banks | .............$5.0
621999 | All Other Miscellaneous Ambulatory Health Care Services | ..............$5.0
Subsector 622—Hospitals
622110 | General Medical and Surgical Hospitals | .............$5.0
622210 | Psychiatric and Substance Abuse Hospitals | ..............$5.0
622310 | Specialty (except Psychiatric and Substance Abuse) Hospitals | .............$5.0
Subsector 623—Nursing and Residential Care Facilities
623110 | Nursing Care Facilities | .............$5.0
623210 | Residential Mental Retardation Facilities | .............$5.0
623220 | Residential Mental Health and Substance Abuse Facilities | .............$5.0
623311 | Continuing Care Retirement Communities | .............$5.0
623312 | Homes for the Elderly | .............$5.0
623990 | Other Residential Care Facilities | ..............$5.0
Subsector 624—Social Assistance
624110 | Child and Youth Services | .............$5.0
624120 | Services for the Elderly and Persons with Disabilities | ..............$5.0
624190 | Other Individual and Family Services | ..............$5.0
624210 | Community Food Services | ..............$5.0
624221 | Temporary Shelters | .............$5.0
624229 | Other Community Housing Services | ..............$5.0
624230 | Emergency and Other Relief Services | .............$5.0
624310 | Vocational Rehabilitation Services | .............$5.0
624410 | Child Day Care Services | .............$5.0
Sector 71—Arts, Entertainment and Recreation
Subsector 711—Performing Arts, Spectator Sports and Related Industries
711110 | Theater Companies and Dinner Theaters | .............$5.0
711120 | Dance Companies | ..............$5.0
711130 | Musical Groups and Artists | ..............$5.0
711190 | Other Performing Arts Companies | .............$5.0
711211 | Sports Teams and Clubs | ..............$5.0
711212 | Race Tracks | ..............$5.0
711219 | Other Spectator Sports | ..............$5.0
711310 | Promoters of Performing Arts, Sports and Similar Events with Facilities | ..............$5.0
711320 | Promoters of Performing Arts, Sports and Similar Events without Facilities | .............$5.0
711410 | Agents and Managers for Artists, Athletes, Entertainers and Other Public Figures | ..............$5.0
711510 | Independent Artists, Writers, and Performers | ..............$5.0
Subsector 712—Museums, Historical Sites and Similar Institutions
712110 | Museums | .............$5.0
712120 | Historical Sites | .............$5.0
712130 | Zoos and Botanical Gardens | ..............$5.0
712190 | Nature Parks and Other Similar Institutions | ..............$5.0
Subsector 713—Amusement, Gambling and Recreation Industries
713110 | Amusement and Theme Parks | .............$5.0
713120 | Amusement Arcades | .............$5.0
713210 | Casinos (except Casino Hotels) | .............$5.0
713290 | Other Gambling Industries | .............$5.0
713910 | Golf Courses and Country Clubs | ..............$5.0
713920 | Skiing Facilities | .............$5.0
713930 | Marinas | .............$5.0
713940 | Fitness and Recreational Sports Centers | ..............$5.0
713950 | Bowling Centers | .............$5.0
713990 | All Other Amusement and Recreation Industries | .............$5.0
Sector 72—Accommodation and Food Services
Subsector 721—Accommodation
721110 | Hotels (except Casino Hotels) and Motels | .............$5.0
721120 | Casino Hotels | .............$5.0
721191 | Bed and Breakfast Inns | .............$5.0
721199 | All Other Traveler Accommodation | .............$5.0
721211 | RV (Recreational Vehicle) Parks and Campgrounds | ............$5.0
721214 | Recreational and Vacation Camps (except Campgrounds) | .............$5.0
721310 | Rooming and Boarding Houses | .............$5.0
Subsector 722—Food Services and Drinking Places
722110 | Full-Service Restaurants | .............$5.0
722211 | Limited-Service Restaurants | .............$5.0
722212 | Cafeterias | .............$5.0
722213 | Snack and Nonalcoholic Beverage Bars | .............$5.0
722310 | Food Service Contractors | ...........$15.0
722320 | Caterers | .............$5.0
722330 | Mobile Food Services | ..............$5.0
722410 | Drinking Places (Alcoholic Beverages) | .............$5.0
Sector 81—Other Services
Subsector 811—Repair and Maintenance
811111 | General Automotive Repair | .............$5.0
811112 | Automotive Exhaust System Repair | .............$5.0
811113 | Automotive Transmission Repair | .............$5.0
811118 | Other Automotive Mechanical and Electrical Repair and Maintenance | .............$5.0
811121 | Automotive Body, Paint and Interior Repair and Maintenance | .............$5.0
811122 | Automotive Glass Replacement Shops | .............$5.0
811191 | Automotive Oil Change and Lubrication Shops | .............$5.0
811192 | Car Washes | .............$5.0
811198 | All Other Automotive Repair and Maintenance | .............$5.0
811211 | Consumer Electronics Repair and Maintenance | ............$5.0
811212 | Computer and Office Machine Repair and Maintenance | ...........$18.0
811213 | Communication Equipment Repair and Maintenance | .............$5.0
811219 | Other Electronic and Precision Equipment Repair and Maintenance | ............$5.0
811310 | Commercial and Industrial Machinery and Equipment (except Automotive and Electronic) Repair and Maintenance | .............$5.0
811411 | Home and Garden Equipment Repair and Maintenance | ............$5.0
811412 | Appliance Repair and Maintenance | ............$5.0
811420 | Reupholstery and Furniture Repair | .............$5.0
811430 | Footwear and Leather Goods Repair | .............$5.0
811490 | Other Personal and Household Goods Repair and Maintenance | .............$5.0
Subsector 812—Personal and Laundry Services
812111 | Barber Shops | ............$5.0
812112 | Beauty Salons | ............$5.0
812113 | Nail Salons | ............$5.0
812191 | Diet and Weight Reducing Centers | ............$5.0
812199 | Other Personal Care Services | ............$5.0
812210 | Funeral Homes and Funeral Services | ............$5.0
812220 | Cemeteries and Crematories | ............$5.0
812310 | Coin-Operated Laundries and Drycleaners | .............$5.0
812320 | Drycleaning and Laundry Services (except Coin-Operated) | $3.5
812331 | Linen Supply | ...........$10.5
812332 | Industrial Launderers | ...........$10.5
812391 | Garment Pressing, and Agents for Laundries | .............$5.0
812399 | All Other Laundry Services | .............$5.0
812910 | Pet Care (except Veterinary) Services | .............$5.0
812921 | Photo Finishing Laboratories (except One-Hour) | ............$5.0
812922 | One-Hour Photo Finishing | ............$5.0
812930 | Parking Lots and Garages | .............$5.0
812990 | All Other Personal Services | .............$5.0
Subsector 813—Religious, Grantmaking, Civic, Professional and Similar Organizations
813110 | Religious Organizations | ............$5.0
813211 | Grantmaking Foundations | ............$5.0
813212 | Voluntary Health Organizations | ............$5.0
813219 | Other Grantmaking and Giving Services | ............$5.0
813311 | Human Rights Organizations | ............$5.0
813312 | Environment, Conservation and Wildlife Organizations | .............$5.0
813319 | Other Social Advocacy Organizations | .................$5.0
813410 | Civic and Social Organizations | .................$5.0
813910 | Business Associations | .................$5.0
813920 | Professional Organizations | .................$5.0
813930 | Labor Unions and Similar Labor Organizations | .................$5.0
813940 | Political Organizations | .................$5.0
813990 | Other Similar Organizations (except Business, Professional, Labor, and Political Organizations) | .................$5.0

Footnotes

[As noted at the head of the table in the Supplementary Information above, the following footnotes relate only to SBA's proposed size standards. Footnotes to existing size standards follow the table of size standards in the Supplementary Information above.]

1. NAICS codes 221111, 221112, 221113, 221119, 221121, 221122—A firm is small if, including its affiliates, it is primarily engaged in the generation, transmission, and/or distribution of electric energy for sale and its total electric output for the preceding fiscal year did not exceed 4 million megawatt hours.

2. NAICS code 234990—Dredging: To be considered small for purposes of Government procurement, a firm must perform at least 40 percent of the volume dredged with its own equipment or equipment owned by another small dredging concern.

3. NAICS code 311421—For purposes of Government procurement for food canning and preserving, the standard of 500 employees excludes agricultural labor as defined in 3306(k) of the Internal Revenue Code, 26 U.S.C. § 3306(k).

4. NAICS code 324110—For purposes of Government procurement, the firm may not have more than 1,500 employees nor more than 75,000 barrels per day capacity of petroleum-based inputs, including crude oil or bona fide feedstocks. Capacity includes owned or leased facilities as well as facilities under a processing agreement or an arrangement such as an exchange agreement or a throughput. The total product to be delivered under the contract must be at least 90 percent refined by the successful bidder from either crude oil or bona fide feedstocks.

5. NAICS code 326211—For Government procurement, a firm is small for bidding on a contract for pneumatic tires within Census Classification codes 30111 and 30112, provided that:

(a) The value of tires within Census Classification codes 30111 and 30112 which it manufactured in the United States during the previous calendar year is more than 50 percent of the value of its total worldwide manufacture,

(b) the value of pneumatic tires within Census Classification codes 30111 and 30112 comprising its total worldwide manufacture during the preceding calendar year was less than 5 percent of the value of all such tires manufactured in the United States during that period, and

(c) the value of the principal product which it manufactured or otherwise produced, or sold worldwide during the preceding calendar year is less than 10 percent of the total value of such products manufactured or otherwise produced or sold in the United States during that period.

6. NAICS Subsectors 333, 334, 335 and 336—For rebuilding machinery or equipment on a factory basis, or equivalent, use the NAICS code for a newly manufactured product. Concerns performing major rebuilding or overhaul activities do not necessarily have to meet the criteria for being a “manufacturer” although the activities may be classified under a manufacturing NAICS code. Ordinary repair services or preservation are not considered rebuilding.

7. NAICS code 336413—Contracts for the rebuilding or overhaul of aircraft ground support equipment on a contract basis are classified under NAICS code 336413.

8. NAICS Codes 522110, 522120, 522130, 522190, 522210 and 522930—A financial institution's assets are determined by averaging the assets reported on its four quarterly financial statements for the preceding year. “Assets” for the purposes of this size standard means the assets defined according to the Federal Financial Institutions Examination Council 034 call report form.

9. NAICS code 531190—Leasing of building space to the Federal Government by Owners: For Government procurement, a size standard of $15.0 million in gross receipts applies to the owners of building space leased to the Federal Government. The standard does not apply to an agent.

10. NAICS codes 531210, 541810, 561510 and 561920—As measured by total revenues, but excluding funds received in trust for an unaffiliated third party, such as bookings or sales subject to commissions. The commissions received are included as revenue.

11. NAICS code 541710—For research and development contracts requiring the delivery of a manufactured product, the appropriate size standard is that of the manufacturing industry.

(a) “Research and Development” means laboratory or other physical research and development. It does not include economic, educational, engineering, operations, systems, or other nonphysical research; or computer programming, data processing, commercial and/or medical laboratory testing.

(b) For purposes of the Small Business Innovation Research (SBIR) program only, a different definition has been established by law. See § 121.701 of these regulations.

(c) “Research and Development” for guided missiles and space vehicles includes evaluations and simulation, and other services requiring thorough knowledge of complete missiles and spacecraft.

12. NAICS code 561210—Facilities Management, a component of NAICS 561210, includes establishments, not classified elsewhere, which provide overall management and personnel to perform a variety of related support services in operating a complete facility in or around a specific building, or within another business or Government establishment. Facilities management means furnishing three or more personnel supply services which may include, but are not limited to secretarial services, typists, word processing, maintaining files and/or libraries, telephone answering, switchboard operation, reproduction or mimeograph service, mailing service, writers, bookkeeping, financial or business management, public relations, conference planning, minor office equipment maintenance and repair, use of information systems (not programming), word processing, travel arrangements, maintaining files and/or libraries.

13. NAICS code 235990 (All Other Special Trade Contractors) and NAICS code 561210 (Facilities Support Services)—Base Maintenance:

(a) If one of the activities of base maintenance, as defined in paragraph (b) (below in this endnote) can be identified with a separate industry and that activity (or industry) accounts for 50 percent or more of the value of an entire contract, then the proper size standard is that of the particular industry, and not the base maintenance size standard.

(b) “Base Maintenance” requires the performance of three or more separate activities in the areas of service or special trade construction industries. If services are performed, these activities must each be in a separate NAICS code including, but not limited to, Janitorial and Custodial Service, Fire Prevention Service, Messenger Service, Commissary Service, Protective Guard Service, and Grounds Maintenance and Landscaping Service. If the contract requires the use of special trade contractors (plumbing, painting, plastering, carpentry, etc.), all such special trade construction activities are considered a single activity and classified as Base Housing Maintenance. Since Base Housing Maintenance is only one activity, two additional activities are required for a contract to be classified as “Base Maintenance.”

14. NAICS 562910—Environmental Remediation Services:

(a) For SBA assistance as a small business concern in the industry of Environmental Remediation Services, other than for Government procurement, a concern must be engaged primarily in furnishing a range of services for the remediation of a contaminated environment to an acceptable condition including, but not limited to, preliminary assessment, site inspection, testing, remedial investigation, feasibility studies, remedial design, containment, remedial action, removal of contaminated materials, storage of contaminated materials and security and site closeouts. If one of such activities accounts for 50 percent or more of a concern's total revenues, employees, or other related factors, the concern's primary industry is that of the particular industry and not the Environmental Remediation Services Industry.

(b) For purposes of classifying a Government procurement as Environmental Remediation Services, the general purpose of the procurement must be to restore a contaminated environment and also the procurement must be composed of activities in three or more separate industries with separate NAICS codes or, in some instances (e.g., engineering), smaller sub-components of NAICS codes with separate, distinct size standards. These activities may include, but are not limited to, separate activities in industries such as: Heavy Construction; Special Trade Construction; Engineering Services; Architectural Services; Management Services; Refuse Systems; Sanitary Services, Not Elsewhere Classified; Local Trucking Without Storage; Testing Laboratories; and Commercial, Physical and Biological Research. If any activity in the procurement can be identified with a separate NAICS code, or component of a code with a separate distinct size standard, and that industry accounts for 50 percent or more of the value of the entire procurement, then the proper size standard is the one for that particular industry, and not the Environmental Remediation Service size standard.

§ 121.402 [Amended]

5. Amend § 121.402 as follows:

a. In paragraph (a) and (d) replace the acronym “SIC” with the acronym “NAICS.”

b. In paragraph (b) replace all “SIC” acronyms with “NAICS” and in the second sentence, add “United States” after the first NAICS acronym.

c. In paragraph (c) replace all “SIC” acronyms with the acronym “NAICS” and replace the word “a” before the second NAICS acronym with the word “an.”

d. In paragraph (e) replace the words “a SIC” with “an NAICS.”

§ 121.403 [Amended]

6. In § 121.403, replace the acronym “SIC” in the heading and the first sentence with the acronym “NAICS.”

§ 121.406 [Amended]

7. In paragraph (c)(1) of § 121.406, replace the acronym “SIC” with the acronym “NAICS.”

§ 121.409 [Amended]

8. In § 121.409, replace the acronym “SIC” with the acronym “NAICS.”

§ 121.410 [Amended]

9. In the last sentence of paragraph (a) of § 121.410, remove the phrase “SIC code 8711” and replace it with “NAICS code 541330.”

§ 121.603 [Amended]

10. In paragraph (a) of § 121.603, replace the acronym “SIC” with the acronym “NAICS.”

§ 121.1102 [Amended]

11. In § 121.1102, replace the acronym “SIC” in the heading and the text with the acronym “NAICS.”

§ 121.1103 [Amended]

12. Amend § 121.1103 as follows:

a. In the heading and the first sentence of paragraph (a), replace the phrase “a SIC” with “an NAICS.”

b. In paragraph (b), replace the acronym “SIC” with the acronym “NAICS.”

§ 121.1202 [Amended]

13. In paragraph (d) of § 121.1202, replace the phrase “a four-digit” with “an NAICS” and replace the acronym “SIC” with “NAICS.”

§ 121.1204 [Amended]

14. In paragraphs (a)(3) and (b)(1)(ii) of § 121.1204, replace the acronym “SIC” with the acronym “NAICS.”

Dated: April 3, 2000.
Fred P. Hochberg,
Acting Administrator.

[FR Doc. 00-11874 Filed 5-12-00; 8:45 am]

BILLING CODE 8025-01-P